DEPARTMENT OF LABOR

Employment Standards Administration, Wage and Hour Division

Minimum Wages for Federal and Federally Assisted Construction; General Wage Determination Decisions

General wage determination decisions of the Secretary of labor are issued in accordance with applicable law and are based on the information obtained by the Department of Labor from its study of local wage conditions and data made available from other sources. They specify the basic hourly wage rates and fringe benefits which are determined to be prevailing for the described classes of laborers and mechanics employed on construction projects of a similar character and in the localities specified therein.

The determinations in these decisions of prevailing rates and fringe benefits have been made in accordance with 29 CFR Part 1, by authority of the Secretary of Labor pursuant to the provisions of the Davis-Bacon Act of March 3, 1931, as amended (46 Stat. 1494, as amended, 40 U.S.C. 27a) and of other Federal statutes referred to in 29 CFR Part 1, Appendix, as well as such additional statutes as may from time to time be enacted containing provisions for the payment of wages determined to be prevailing by the Secretary of Labor in accordance with the Davis-Bacon Act. The prevailing rates and fringe benefits determined in these decisions shall, in accordance with the provisions of the foregoing statutes, constitute the minimum wages payable on Federal and federally assisted construction projects to laborers and mechanics of the specified classes engaged on contract work of the character and in the localities described therein.

Good cause is hereby found for not utilizing notice and public comment procedure thereon prior to the issuance of these determinations as prescribed in 5 U.S.C. 553 and not providing for delay in the effective date as prescribed in that section, because the necessity to issue current construction industry wage determinations frequently and in large volume causes procedures to be impractical and contrary to the public interest.

General wage determination decisions, and modifications and supersedeas decisions thereto, contain no expiration dates and are effective from their date of notice in the Federal Register, or on the date written notice is received by the agency, whichever is earlier. These decisions are to be used in accordance with the provisions of 29 CFR Parts 1 and 5. Accordingly, the applicable decision, together with any modifications issued, must be made a part of every contract for performance of the described work within the geographic area indicated as required by an applicable Federal prevailing wage law and 29 CFR Part 5. The wage rates and fringe benefits, notice of which is published herein, and which are contained in the Government Printing Office (GPO) document entitled “General Wage Determinations Issued Under The Davis-Bacon And Related Acts,” shall be the minimum paid by contractors and subcontractors to laborers and mechanics.

Any person, organization, or government agency having an interest in the rates determined as prevailing is encouraged to submit wage rate and fringe benefit information for consideration by the Department. Further information and self-explanatory forms for the purpose of submitting this data may be obtained by writing to the U.S. Department of Labor, Employment Standards Administration, Wage and Hour Division, Division of Wage Determinations, 200 Constitution Avenue, NW., Room S-3014, Washington, DC 20210.

Supersedeas Decisions to General Wage Determination Decisions

The number of decisions being superseded and their date of notice in the Federal Register are listed with each State. Supersedeas decision numbers are in parentheses following the number of decisions being superseded.

Volume I

Connecticut

CT00-01 (FEB. 11, 2000) (CT01-01)

CT00-02 (FEB. 11, 2000) (CT01-02)

CT00-03 (FEB. 11, 2000) (CT01-03)

CT00-04 (FEB. 11, 2000) (CT01-04)

CT00-05 (FEB. 11, 2000) (CT01-05)

CT00-06 (FEB. 11, 2000) (CT01-06)

CT00-07 (FEB. 11, 2000) (CT01-07)

CT00-08 (FEB. 11, 2000) (CT01-08)

Massachusetts

MA00-01 (FEB. 11, 2000) (MA01-01)

MA00-02 (FEB. 11, 2000) (MA01-02)

MA00-03 (FEB. 11, 2000) (MA01-03)

MA00-04 (FEB. 11, 2000) (MA01-04)

MA00-05 (FEB. 11, 2000) (MA01-05)

MA00-06 (FEB. 11, 2000) (MA01-06)

MA00-07 (FEB. 11, 2000) (MA01-07)

MA00-08 (FEB. 11, 2000) (MA01-08)

MA00-09 (FEB. 11, 2000) (MA01-09)

MA00-10 (FEB. 11, 2000) (MA01-10)

MA00-11 (FEB. 11, 2000) (MA01-11)

MA00-12 (FEB. 11, 2000) (MA01-12)

MA00-13 (FEB. 11, 2000) (MA01-13)

MA00-14 (FEB. 11, 2000) (MA01-14)

MA00-15 (FEB. 11, 2000) (MA01-15)

MA00-16 (FEB. 11, 2000) (MA01-16)

MA00-17 (FEB. 11, 2000) (MA01-17)

MA00-18 (FEB. 11, 2000) (MA01-18)

MA00-19 (FEB. 11, 2000) (MA01-19)

MA00-20 (FEB. 11, 2000) (MA01-20)

MA00-21 (FEB. 11, 2000) (MA01-21)

Maine

ME00-01 (FEB. 11, 2000) (ME01-01)

ME00-02 (FEB. 11, 2000) (ME01-02)

ME00-03 (FEB. 11, 2000) (ME01-03)

ME00-04 (FEB. 11, 2000) (ME01-04)

ME00-05 (FEB. 11, 2000) (ME01-05)

ME00-06 (FEB. 11, 2000) (ME01-06)

ME00-07 (FEB. 11, 2000) (ME01-07)

ME00-08 (FEB. 11, 2000) (ME01-08)

ME00-09 (FEB. 11, 2000) (ME01-09)

ME00-10 (FEB. 11, 2000) (ME01-10)

ME00-11 (FEB. 11, 2000) (ME01-11)

ME00-12 (FEB. 11, 2000) (ME01-12)

ME00-13 (FEB. 11, 2000) (ME01-13)

ME00-14 (FEB. 11, 2000) (ME01-14)

ME00-15 (FEB. 11, 2000) (ME01-15)

ME00-16 (FEB. 11, 2000) (ME01-16)

New Hampshire

NH00-01 (FEB. 11, 2000) (NH01-01)

NH00-02 (FEB. 11, 2000) (NH01-02)

NH00-03 (FEB. 11, 2000) (NH01-03)

NH00-04 (FEB. 11, 2000) (NH01-04)

NH00-05 (FEB. 11, 2000) (NH01-05)

NH00-06 (FEB. 11, 2000) (NH01-06)

NH00-07 (FEB. 11, 2000) (NH01-07)

NH00-08 (FEB. 11, 2000) (NH01-08)

NH00-09 (FEB. 11, 2000) (NH01-09)

NH00-10 (FEB. 11, 2000) (NH01-10)

NH00-11 (FEB. 11, 2000) (NH01-11)

New Jersey

NJ00-01 (FEB. 11, 2000) (NJ01-01)

NJ00-02 (FEB. 11, 2000) (NJ01-02)

NJ00-03 (FEB. 11, 2000) (NJ01-03)

NJ00-04 (FEB. 11, 2000) (NJ01-04)

NJ00-05 (FEB. 11, 2000) (NJ01-05)

NJ00-06 (FEB. 11, 2000) (NJ01-06)

NJ00-07 (FEB. 11, 2000) (NJ01-07)

NJ00-08 (FEB. 11, 2000) (NJ01-08)

NJ00-09 (FEB. 11, 2000) (NJ01-09)

New York

NY00-01 (FEB. 11, 2000) (NY01-01)

NY00-02 (FEB. 11, 2000) (NY01-02)

NY00-03 (FEB. 11, 2000) (NY01-03)

NY00-04 (FEB. 11, 2000) (NY01-04)

NY00-05 (FEB. 11, 2000) (NY01-05)

NY00-06 (FEB. 11, 2000) (NY01-06)

NY00-07 (FEB. 11, 2000) (NY01-07)

NY00-08 (FEB. 11, 2000) (NY01-08)

NY00-09 (FEB. 11, 2000) (NY01-09)

NY00-10 (FEB. 11, 2000) (NY01-10)

NY00-11 (FEB. 11, 2000) (NY01-11)

NY00-12 (FEB. 11, 2000) (NY01-12)

NY00-13 (FEB. 11, 2000) (NY01-13)

NY00-14 (FEB. 11, 2000) (NY01-14)

NY00-15 (FEB. 11, 2000) (NY01-15)

NY00-16 (FEB. 11, 2000) (NY01-16)

NY00-17 (FEB. 11, 2000) (NY01-17)

NY00-18 (FEB. 11, 2000) (NY01-18)

NY00-19 (FEB. 11, 2000) (NY01-19)

NY00-20 (FEB. 11, 2000) (NY01-20)

NY00-21 (FEB. 11, 2000) (NY01-21)

NY00-22 (FEB. 11, 2000) (NY01-22)

NY00-23 (FEB. 11, 2000) (NY01-23)

NY00-24 (FEB. 11, 2000) (NY01-24)

NY00-25 (FEB. 11, 2000) (NY01-25)

NY00-26 (FEB. 11, 2000) (NY01-26)

NY00-27 (FEB. 11, 2000) (NY01-27)

NY00-28 (FEB. 11, 2000) (NY01-28)

NY00-29 (FEB. 11, 2000) (NY01-29)

NY00-30 (FEB. 11, 2000) (NY01-30)

NY00-31 (FEB. 11, 2000) (NY01-31)

NY00-32 (FEB. 11, 2000) (NY01-32)

NY00-33 (FEB. 11, 2000) (NY01-33)

NY00-34 (FEB. 11, 2000) (NY01-34)

NY00-35 (FEB. 11, 2000) (NY01-35)

NY00-36 (FEB. 11, 2000) (NY01-36)

NY00-37 (FEB. 11, 2000) (NY01-37)

NY00-38 (FEB. 11, 2000) (NY01-38)

NY00-39 (FEB. 11, 2000) (NY01-39)

NY00-40 (FEB. 11, 2000) (NY01-40)

NY00-41 (FEB. 11, 2000) (NY01-41)

NY00-42 (FEB. 11, 2000) (NY01-42)

NY00-43 (FEB. 11, 2000) (NY01-43)

NY00-44 (FEB. 11, 2000) (NY01-44)

NY00-45 (FEB. 11, 2000) (NY01-45)

NY00-46 (FEB. 11, 2000) (NY01-46)

NY00-47 (FEB. 11, 2000) (NY01-47)

NY00-48 (FEB. 11, 2000) (NY01-48)

NY00-49 (FEB. 11, 2000) (NY01-49)

NY00-50 (FEB. 11, 2000) (NY01-50)

NY00-51 (FEB. 11, 2000) (NY01-51)

NY00-52 (FEB. 11, 2000) (NY01-52)

NY00-53 (FEB. 11, 2000) (NY01-53)

NY00-54 (FEB. 11, 2000) (NY01-54)

NY00-55 (FEB. 11, 2000) (NY01-55)

NY00-56 (FEB. 11, 2000) (NY01-56)

NY00-57 (FEB. 11, 2000) (NY01-57)

NY00-58 (FEB. 11, 2000) (NY01-58)

NY00-59 (FEB. 11, 2000) (NY01-59)

NY00-60 (FEB. 11, 2000) (NY01-60)

NY00-61 (FEB. 11, 2000) (NY01-61)

NY00-62 (FEB. 11, 2000) (NY01-62)

NY00-63 (FEB. 11, 2000) (NY01-63)

NY00-64 (FEB. 11, 2000) (NY01-64)

NY00-65 (FEB. 11, 2000) (NY01-65)

NY00-66 (FEB. 11, 2000) (NY01-66)

NY00-67 (FEB. 11, 2000) (NY01-67)

NY00-68 (FEB. 11, 2000) (NY01-68)

NY00-69 (FEB. 11, 2000) (NY01-69)

NY00-70 (FEB. 11, 2000) (NY01-70)

NY00-71 (FEB. 11, 2000) (NY01-71)

NY00-72 (FEB. 11, 2000) (NY01-72)

NY00-73 (FEB. 11, 2000) (NY01-73)

NY00-74 (FEB. 11, 2000) (NY01-74)

NY00-75 (FEB. 11, 2000) (NY01-75)

NY00-76 (FEB. 11, 2000) (NY01-76)

NY00-77 (FEB. 11, 2000) (NY01-77)

Guam

GU00-01 (FEB. 11, 2000) (GU01-01)

Puerto Rico

PR00-01 (FEB. 11, 2000) (PR01-01)

PR00-02 (FEB. 11, 2000) (PR01-02)

PR00-03 (FEB. 11, 2000) (PR01-03)

Rhode Island

RI00-01 (FEB. 11, 2000) (RI01-01)

RI00-02 (FEB. 11, 2000) (RI01-02)

RI00-03 (FEB. 11, 2000) (RI01-03)

RI00-04 (FEB. 11, 2000) (RI01-04)

RI00-05 (FEB. 11, 2000) (RI01-05)

Virgin Islands

VI00-01 (FEB. 11, 2000) (VI01-01)

VI00-02 (FEB. 11, 2000) (VI01-02)

Vermont

VT00-01 (FEB. 11, 2000) (VT01-01)

VT00-02 (FEB. 11, 2000) (VT01-02)

VT00-03 (FEB. 11, 2000) (VT01-03)

VT00-04 (FEB. 11, 2000) (VT01-04)

VT00-05 (FEB. 11, 2000) (VT01-05)

VT00-06 (FEB. 11, 2000) (VT01-06)

VT00-07 (FEB. 11, 2000) (VT01-07)

VT00-08 (FEB. 11, 2000) (VT01-08)

VT00-09 (FEB. 11, 2000) (VT01-09)

VT00-10 (FEB. 11, 2000) (VT01-10)

VT00-11 (FEB. 11, 2000) (VT01-11)

VT00-12 (FEB. 11, 2000) (VT01-12)

VT00-13 (FEB. 11, 2000) (VT01-13)

VT00-14 (FEB. 11, 2000) (VT01-14)

VT00-15 (FEB. 11, 2000) (VT01-15)

VT00-16 (FEB. 11, 2000) (VT01-16)

VT00-17 (FEB. 11, 2000) (VT01-17)

VT00-18 (FEB. 11, 2000) (VT01-18)

VT00-19 (FEB. 11, 2000) (VT01-19)

VT00-20 (FEB. 11, 2000) (VT01-20)

VT00-21 (FEB. 11, 2000) (VT01-21)

VT00-22 (FEB. 11, 2000) (VT01-22)

VT00-23 (FEB. 11, 2000) (VT01-23)

VT00-24 (FEB. 11, 2000) (VT01-24)

VT00-25 (FEB. 11, 2000) (VT01-25)

VT00-26 (FEB. 11, 2000) (VT01-26)

VT00-27 (FEB. 11, 2000) (VT01-27)

VT00-28 (FEB. 11, 2000) (VT01-28)

VT00-29 (FEB. 11, 2000) (VT01-29)

VT00-30 (FEB. 11, 2000) (VT01-30)

VT00-31 (FEB. 11, 2000) (VT01-31)

VT00-32 (FEB. 11, 2000) (VT01-32)

VT00-33 (FEB. 11, 2000) (VT01-33)

VT00-34 (FEB. 11, 2000) (VT01-34)

VT00-35 (FEB. 11, 2000) (VT01-35)

VT00-36 (FEB. 11, 2000) (VT01-36)

VT00-37 (FEB. 11, 2000) (VT01-37)

VT00-38 (FEB. 11, 2000) (VT01-38)

VT00-39 (FEB. 11, 2000) (VT01-39)

VT00-40 (FEB. 11, 2000) (VT01-40)

VT00-41 (FEB. 11, 2000) (VT01-41)

VT00-42 (JUN. 16, 2000) (VT01-42)

VT00-43 (JUN. 16, 2000) (VT01-43)

Volume II

District of Col

DC00-01 (FEB. 11, 2000) (DC01-01)

DC00-02 (FEB. 11, 2000) (DC01-02)

DC00-03 (FEB. 11, 2000) (DC01-03)

Delaware

DE00-01 (FEB. 11, 2000) (DE01-01)

DE00-02 (FEB. 11, 2000) (DE01-02)

DE00-03 (FEB. 11, 2000) (DE01-03)

DE00-04 (FEB. 11, 2000) (DE01-04)

DE00-05 (FEB. 11, 2000) (DE01-05)

DE00-06 (FEB. 11, 2000) (DE01-06)

DE00-07 (FEB. 11, 2000) (DE01-07)

DE00-08 (FEB. 11, 2000) (DE01-08)

DE00-09 (FEB. 11, 2000) (DE01-09)

DE00-10 (FEB. 11, 2000) (DE01-10)

Maryland

MD00-01 (FEB. 11, 2000) (MD01-01)

MD00-02 (FEB. 11, 2000) (MD01-02)

MD00-03 (FEB. 11, 2000) (MD01-03)

MD00-04 (FEB. 11, 2000) (MD01-04)

MD00-05 (FEB. 11, 2000) (MD01-05)

MD00-06 (FEB. 11, 2000) (MD01-06)

MD00-07 (FEB. 11, 2000) (MD01-07)

MD00-08 (FEB. 11, 2000) (MD01-08)

MD00-09 (FEB. 11, 2000) (MD01-09)

MD00-10 (FEB. 11, 2000) (MD01-10)

MD00-11 (FEB. 11, 2000) (MD01-11)

MD00-12 (FEB. 11, 2000) (MD01-12)

MD00-13 (FEB. 11, 2000) (MD01-13)

MD00-14 (FEB. 11, 2000) (MD01-14)

MD00-15 (FEB. 11, 2000) (MD01-15)

MD00-16 (FEB. 11, 2000) (MD01-16)

MD00-17 (FEB. 11, 2000) (MD01-17)

MD00-18 (FEB. 11, 2000) (MD01-18)

MD00-19 (FEB. 11, 2000) (MD01-19)

MD00-20 (FEB. 11, 2000) (MD01-20)

MD00-21 (FEB. 11, 2000) (MD01-21)

MD00-22 (FEB. 11, 2000) (MD01-22)

MD00-23 (FEB. 11, 2000) (MD01-23)

MD00-24 (FEB. 11, 2000) (MD01-24)

MD00-25 (FEB. 11, 2000) (MD01-25)

MD00-26 (FEB. 11, 2000) (MD01-26)

MD00-27 (FEB. 11, 2000) (MD01-27)

MD00-28 (FEB. 11, 2000) (MD01-28)

MD00-29 (FEB. 11, 2000) (MD01-29)

MD00-30 (FEB. 11, 2000) (MD01-30)

MD00-31 (FEB. 11, 2000) (MD01-31)

MD00-32 (FEB. 11, 2000) (MD01-32)

MD00-33 (FEB. 11, 2000) (MD01-33)

MD00-34 (FEB. 11, 2000) (MD01-34)

MD00-35 (FEB. 11, 2000) (MD01-35)

MD00-36 (FEB. 11, 2000) (MD01-36)

MD00-37 (FEB. 11, 2000) (MD01-37)

MD00-38 (FEB. 11, 2000) (MD01-38)

MD00-39 (FEB. 11, 2000) (MD01-39)

MD00-40 (FEB. 11, 2000) (MD01-40)

MD00-41 (FEB. 11, 2000) (MD01-41)

MD00-42 (FEB. 11, 2000) (MD01-42)

MD00-43 (FEB. 11, 2000) (MD01-43)

MD00-44 (FEB. 11, 2000) (MD01-44)

MD00-45 (FEB. 11, 2000) (MD01-45)

MD00-46 (FEB. 11, 2000) (MD01-46)

MD00-47 (FEB. 11, 2000) (MD01-47)

MD00-48 (FEB. 11, 2000) (MD01-48)

MD00-49 (FEB. 11, 2000) (MD01-49)

MD00-50 (FEB. 11, 2000) (MD01-50)

MD00-51 (FEB. 11, 2000) (MD01-51)

MD00-52 (FEB. 11, 2000) (MD01-52)

MD00-53 (FEB. 11, 2000) (MD01-53)

MD00-54 (FEB. 11, 2000) (MD01-54)

MD00-55 (FEB. 11, 2000) (MD01-55)

MD00-56 (FEB. 11, 2000) (MD01-56)

MD00-57 (FEB. 11, 2000) (MD01-57)

MD00-58 (FEB. 11, 2000) (MD01-58)

MD00-59 (FEB. 11, 2000) (MD01-59)

MD00-60 (FEB. 11, 2000) (MD01-60)

Pennsylvania

PA00-01 (FEB. 11, 2000) (PA01-01)

PA00-02 (FEB. 11, 2000) (PA02-02)

PA00-03 (FEB. 11, 2000) (PA01-03)

PA00-04 (FEB. 11, 2000) (PA01-04)

PA00-05 (FEB. 11, 2000) (PA01-05)

PA00-06 (FEB. 11, 2000) (PA01-06)

PA00-07 (FEB. 11, 2000) (PA01-07)

PA00-08 (FEB. 11, 2000) (PA01-08)

PA00-09 (FEB. 11, 2000) (PA01-09)

PA00-10 (FEB. 11, 2000) (PA01-10)

PA00-11 (FEB. 11, 2000) (PA01-11)

PA00-12 (FEB. 11, 2000) (PA01-12)

PA00-13 (FEB. 11, 2000) (PA01-13)

PA00-14 (FEB. 11, 2000) (PA01-14)

PA00-15 (FEB. 11, 2000) (PA01-15)

PA00-16 (FEB. 11, 2000) (PA01-16)

PA00-17 (FEB. 11, 2000) (PA01-17)

PA00-18 (FEB. 11, 2000) (PA01-18)

PA00-19 (FEB. 11, 2000) (PA01-19)

PA00-20 (FEB. 11, 2000) (PA01-20)

PA00-21 (FEB. 11, 2000) (PA01-21)

PA00-22 (FEB. 11, 2000) (PA01-22)

PA00-23 (FEB. 11, 2000) (PA01-23)

PA00-24 (FEB. 11, 2000) (PA01-24)

PA00-25 (FEB. 11, 2000) (PA01-25)

PA00-26 (FEB. 11, 2000) (PA01-26)

PA00-27 (FEB. 11, 2000) (PA01-27)

PA00-28 (FEB. 11, 2000) (PA01-28)

PA00-29 (FEB. 11, 2000) (PA01-29)

PA00-30 (FEB. 11, 2000) (PA01-30)

PA00-31 (FEB. 11, 2000) (PA01-31)

PA00-32 (FEB. 11, 2000) (PA01-32)

PA00-33 (FEB. 11, 2000) (PA01-33)

PA00-34 (FEB. 11, 2000) (PA01-34)

PA00-35 (FEB. 11, 2000) (PA01-35)

PA00-36 (FEB. 11, 2000) (PA01-36)

PA00-37 (FEB. 11, 2000) (PA01-37)

PA00-38 (FEB. 11, 2000) (PA01-38)

PA00-39 (FEB. 11, 2000) (PA01-39)

PA00-40 (FEB. 11, 2000) (PA01-40)

PA00-41 (FEB. 11, 2000) (PA01-41)

PA00-42 (FEB. 11, 2000) (PA01-42)

PA00-43 (FEB. 11, 2000) (PA01-43)

PA00-44 (FEB. 11, 2000) (PA01-44)

PA00-45 (FEB. 11, 2000) (PA01-45)

PA00-46 (FEB. 11, 2000) (PA01-46)

PA00-47 (FEB. 11, 2000) (PA01-47)

PA00-48 (FEB. 11, 2000) (PA01-48)

PA00-49 (FEB. 11, 2000) (PA01-49)

PA00-50 (FEB. 11, 2000) (PA01-50)

PA00-51 (FEB. 11, 2000) (PA01-51)

PA00-52 (FEB. 11, 2000) (PA01-52)

PA00-53 (FEB. 11, 2000) (PA01-53)

PA00-54 (FEB. 11, 2000) (PA01-54)

PA00-55 (FEB. 11, 2000) (PA01-55)

PA00-56 (FEB. 11, 2000) (PA01-56)

PA00-57 (FEB. 11, 2000) (PA01-57)

PA00-58 (FEB. 11, 2000) (PA01-58)

PA00-59 (FEB. 11, 2000) (PA01-59)

PA00-60 (FEB. 11, 2000) (PA01-60)

PA00-61 (FEB. 11, 2000) (PA01-61)

PA00-62 (FEB. 11, 2000) (PA01-62)

PA00-63 (FEB. 11, 2000) (PA01-63)

PA00-64 (FEB. 11, 2000) (PA01-64)

PA00-65 (FEB. 11, 2000) (PA01-65)

Virginia

VA00-01 (FEB. 11, 2000) (VA01-01)

VA00-02 (FEB. 11, 2000) (VA01-02)

VA00-03 (FEB. 11, 2000) (VA01-03)

VA00-04 (FEB. 11, 2000) (VA01-04)

VA00-05 (FEB. 11, 2000) (VA01-05)

VA00-06 (FEB. 11, 2000) (VA01-06)

VA00-07 (FEB. 11, 2000) (VA01-07)

VA00-08 (FEB. 11, 2000) (VA01-08)

VA00-09 (FEB. 11, 2000) (VA01-09)

VA00-10 (FEB. 11, 2000) (VA01-10)

VA00-11 (FEB. 11, 2000) (VA01-11)

VA00-12 (FEB. 11, 2000) (VA01-12)

VA00-13 (FEB. 11, 2000) (VA01-13)

VA00-14 (FEB. 11, 2000) (VA01-14)

VA00-15 (FEB. 11, 2000) (VA01-15)

VA00-16 (FEB. 11, 2000) (VA01-16)

VA00-17 (FEB. 11, 2000) (VA01-17)

VA00-18 (FEB. 11, 2000) (VA01-18)

VA00-19 (FEB. 11, 2000) (VA01-19)

VA00-20 (FEB. 11, 2000) (VA01-20)

VA00-21 (FEB. 11, 2000) (VA01-21)

VA00-22 (FEB. 11, 2000) (VA01-22)

VA00-23 (FEB. 11, 2000) (VA01-23)

VA00-24 (FEB. 11, 2000) (VA01-24)

VA00-25 (FEB. 11, 2000) (VA01-25)

VA00-26 (FEB. 11, 2000) (VA01-26)

VA00-27 (FEB. 11, 2000) (VA01-27)

VA00-28 (FEB. 11, 2000) (VA01-28)

VA00-29 (FEB. 11, 2000) (VA01-29)

VA00-30 (FEB. 11, 2000) (VA01-30)

VA00-31 (FEB. 11, 2000) (VA01-31)

VA00-32 (FEB. 11, 2000) (VA01-32)

VA00-33 (FEB. 11, 2000) (VA01-33)

VA00-34 (FEB. 11, 2000) (VA01-34)

VA00-35 (FEB. 11, 2000) (VA01-35)

VA00-36 (FEB. 11, 2000) (VA01-36)

VA00-37 (FEB. 11, 2000) (VA01-37)

VA00-38 (FEB. 11, 2000) (VA01-38)

VA00-39 (FEB. 11, 2000) (VA01-39)

VA00-40 (FEB. 11, 2000) (VA01-40)

VA00-41 (FEB. 11, 2000) (VA01-41)

VA00-42 (FEB. 11, 2000) (VA01-42)

VA00-43 (FEB. 11, 2000) (VA01-43)

VA00-44 (FEB. 11, 2000) (VA01-44)

VA00-45 (FEB. 11, 2000) (VA01-45)

VA00-46 (FEB. 11, 2000) (VA01-46)

VA00-47 (FEB. 11, 2000) (VA01-47)

VA00-48 (FEB. 11, 2000) (VA01-48)

VA00-49 (FEB. 11, 2000) (VA01-49)

VA00-50 (FEB. 11, 2000) (VA01-50)

VA00-51 (FEB. 11, 2000) (VA01-51)

VA00-52 (FEB. 11, 2000) (VA01-52)

VA00-53 (FEB. 11, 2000) (VA01-53)

VA00-54 (FEB. 11, 2000) (VA01-54)

VA00-55 (FEB. 11, 2000) (VA01-55)

VA00-56 (FEB. 11, 2000) (VA01-56)

VA00-57 (FEB. 11, 2000) (VA01-57)

VA00-58 (FEB. 11, 2000) (VA01-58)

VA00-59 (FEB. 11, 2000) (VA01-59)

VA00-60 (FEB. 11, 2000) (VA01-60)

VA00-61 (FEB. 11, 2000) (VA01-61)

VA00-62 (FEB. 11, 2000) (VA01-62)

VA00-63 (FEB. 11, 2000) (VA01-63)

VA00-64 (FEB. 11, 2000) (VA01-64)

VA00-65 (FEB. 11, 2000) (VA01-65)

VA00-66 (FEB. 11, 2000) (VA01-66)

VA00-67 (FEB. 11, 2000) (VA01-67)

VA00-68 (FEB. 11, 2000) (VA01-68)

VA00-69 (FEB. 11, 2000) (VA01-69)

VA00-70 (FEB. 11, 2000) (VA01-70)

VA00-71 (FEB. 11, 2000) (VA01-71)

VA00-72 (FEB. 11, 2000) (VA01-72)

VA00-73 (FEB. 11, 2000) (VA01-73)

VA00-74 (FEB. 11, 2000) (VA01-74)

VA00-75 (FEB. 11, 2000) (VA01-75)

VA00-76 (FEB. 11, 2000) (VA01-76)

VA00-77 (FEB. 11, 2000) (VA01-77)

VA00-78 (FEB. 11, 2000) (VA01-78)

VA00-79 (FEB. 11, 2000) (VA01-79)

VA00-80 (FEB. 11, 2000) (VA01-80)

VA00-81 (FEB. 11, 2000) (VA01-81)

VA00-82 (FEB. 11, 2000) (VA01-82)

VA00-83 (FEB. 11, 2000) (VA01-83)

VA00-84 (FEB. 11, 2000) (VA01-84)

VA00-85 (FEB. 11, 2000) (VA01-85)

VA00-86 (FEB. 11, 2000) (VA01-86)

VA00-87 (FEB. 11, 2000) (VA01-87)

VA00-88 (FEB. 11, 2000) (VA01-88)

VA00-89 (FEB. 11, 2000) (VA01-89)

VA00-90 (FEB. 11, 2000) (VA01-90)

VA00-91 (FEB. 11, 2000) (VA01-91)

VA00-92 (FEB. 11, 2000) (VA01-92)

VA00-93 (FEB. 11, 2000) (VA01-93)

VA00-94 (FEB. 11, 2000) (VA01-94)

VA00-95 (FEB. 11, 2000) (VA01-95)

VA00-96 (FEB. 11, 2000) (VA01-96)

VA00-97 (FEB. 11, 2000) (VA01-97)

VA00-98 (FEB. 11, 2000) (VA01-98)

VA00-99 (FEB. 11, 2000) (VA01-99)

VA00-100 (FEB. 11, 2000) (VA01-100)

VA00-101 (FEB. 11, 2000) (VA01-101)

VA00-102 (FEB. 11, 2000) (VA01-102)

VA00-103 (FEB. 11, 2000) (VA01-103)

West Virginia

WV00-01 (FEB. 11, 2000) (WV01-01)

WV00-02 (FEB. 11, 2000) (WV01-02)

WV00-03 (FEB. 11, 2000) (WV01-03)

WV00-04 (FEB. 11, 2000) (WV01-04)

WV00-05 (FEB. 11, 2000) (WV01-05)

WV00-06 (FEB. 11, 2000) (WV01-06)

WV00-07 (FEB. 11, 2000) (WV01-07)

WV00-08 (FEB. 11, 2000) (WV01-08)

WV00-09 (FEB. 11, 2000) (WV01-09)

WV00-10 (FEB. 11, 2000) (WV01-10)

WV00-11 (FEB. 11, 2000) (WV01-11)

WV00-12 (FEB. 11, 2000) (WV01-12)

Volume III

Alabama

AL00-01 (FEB. 11, 2000) (AL01-01)

AL00-02 (FEB. 11, 2000) (AL01-02)

AL00-03 (FEB. 11, 2000) (AL01-03)

AL00-04 (FEB. 11, 2000) (AL01-04)

AL00-05 (FEB. 11, 2000) (AL01-05)

AL00-06 (FEB. 11, 2000) (AL01-06)

AL00-07 (FEB. 11, 2000) (AL01-07)

AL00-08 (FEB. 11, 2000) (AL01-08)

AL00-09 (FEB. 11, 2000) (AL01-09)

AL00-10 (FEB. 11, 2000) (AL01-10)

AL00-11 (FEB. 11, 2000) (AL01-11)

AL00-12 (FEB. 11, 2000) (AL01-12)

AL00-13 (FEB. 11, 2000) (AL01-13)

AL00-14 (FEB. 11, 2000) (AL01-14)

AL00-15 (FEB. 11, 2000) (AL01-15)

AL00-16 (FEB. 11, 2000) (AL01-16)

AL00-17 (FEB. 11, 2000) (AL01-17)

AL00-18 (FEB. 11, 2000) (AL01-18)

AL00-19 (FEB. 11, 2000) (AL01-19)

AL00-20 (FEB. 11, 2000) (AL01-20)

AL00-21 (FEB. 11, 2000) (AL01-21)

AL00-22 (FEB. 11, 2000) (AL01-22)

AL00-23 (FEB. 11, 2000) (AL01-23)

AL00-24 (FEB. 11, 2000) (AL01-24)

AL00-25 (FEB. 11, 2000) (AL01-25)

AL00-26 (FEB. 11, 2000) (AL01-26)

AL00-27 (FEB. 11, 2000) (AL01-27)

AL00-28 (FEB. 11, 2000) (AL01-28)

AL00-29 (FEB. 11, 2000) (AL01-29)

AL00-30 (FEB. 11, 2000) (AL01-30)

AL00-31 (FEB. 11, 2000) (AL01-31)

AL00-32 (FEB. 11, 2000) (AL01-32)

AL00-33 (FEB. 11, 2000) (AL01-33)

AL00-34 (FEB. 11, 2000) (AL01-34)

AL00-35 (FEB. 11, 2000) (AL01-35)

AL00-36 (FEB. 11, 2000) (AL01-36)

AL00-37 (FEB. 11, 2000) (AL01-37)

AL00-38 (FEB. 11, 2000) (AL01-38)

AL00-39 (FEB. 11, 2000) (AL01-39)

AL00-40 (FEB. 11, 2000) (AL01-40)

AL00-41 (FEB. 11, 2000) (AL01-41)

AL00-42 (FEB. 11, 2000) (AL01-42)

AL00-43 (FEB. 11, 2000) (AL01-43)

AL00-44 (FEB. 11, 2000) (AL01-44)

AL00-45 (FEB. 11, 2000) (AL01-45)

AL00-46 (FEB. 11, 2000) (AL01-46)

AL00-47 (FEB. 11, 2000) (AL01-47)

AL00-48 (FEB. 11, 2000) (AL01-48)

AL00-49 (FEB. 11, 2000) (AL01-49)

AL00-50 (FEB. 11, 2000) (AL01-50)

AL00-51 (FEB. 11, 2000) (AL01-51)

AL00-52 (FEB. 11, 2000) (AL01-52)

AL00-53 (FEB. 11, 2000) (AL01-53)

AL00-54 (FEB. 11, 2000) (AL01-54)

AL00-55 (FEB. 11, 2000) (AL01-55)

Florida

FL00-01 (FEB. 11, 2000) (FL01-01)

FL00-02 (FEB. 11, 2000) (FL01-02)

FL00-03 (FEB. 11, 2000) (FL01-03)

FL00-04 (FEB. 11, 2000) (FL01-04)

FL00-05 (FEB. 11, 2000) (FL01-05)

FL00-06 (FEB. 11, 2000) (FL01-06)

FL00-07 (FEB. 11, 2000) (FL01-07)

FL00-08 (FEB. 11, 2000) (FL01-08)

FL00-09 (FEB. 11, 2000) (FL01-09)

FL00-10 (FEB. 11, 2000) (FL01-10)

FL00-11 (FEB. 11, 2000) (FL01-11)

FL00-12 (FEB. 11, 2000) (FL01-12)

FL00-13 (FEB. 11, 2000) (FL01-13)

FL00-14 (FEB. 11, 2000) (FL01-14)

FL00-15 (FEB. 11, 2000) (FL01-15)

FL00-16 (FEB. 11, 2000) (FL01-16)

FL00-17 (FEB. 11, 2000) (FL01-17)

FL00-18 (FEB. 11, 2000) (FL01-18)

FL00-19 (FEB. 11, 2000) (FL01-19)

FL00-20 (FEB. 11, 2000) (FL01-20)

FL00-21 (FEB. 11, 2000) (FL01-21)

FL00-22 (FEB. 11, 2000) (FL01-22)

FL00-23 (FEB. 11, 2000) (FL01-23)

FL00-24 (FEB. 11, 2000) (FL01-24)

FL00-25 (FEB. 11, 2000) (FL01-25)

FL00-26 (FEB. 11, 2000) (FL01-26)

FL00-27 (FEB. 11, 2000) (FL01-27)

FL00-28 (FEB. 11, 2000) (FL01-28)

FL00-29 (FEB. 11, 2000) (FL01-29)

FL00-30 (FEB. 11, 2000) (FL01-30)

FL00-31 (FEB. 11, 2000) (FL01-31)

FL00-32 (FEB. 11, 2000) (FL01-32)

FL00-33 (FEB. 11, 2000) (FL01-33)

FL00-34 (FEB. 11, 2000) (FL01-34)

FL00-35 (FEB. 11, 2000) (FL01-35)

FL00-36 (FEB. 11, 2000) (FL01-36)

FL00-37 (FEB. 11, 2000) (FL01-37)

FL00-38 (FEB. 11, 2000) (FL01-38)

FL00-39 (FEB. 11, 2000) (FL01-39)

FL00-40 (FEB. 11, 2000) (FL01-40)

FL00-41 (FEB. 11, 2000) (FL01-41)

FL00-42 (FEB. 11, 2000) (FL01-42)

FL00-43 (FEB. 11, 2000) (FL01-43)

FL00-44 (FEB. 11, 2000) (FL01-44)

FL00-45 (FEB. 11, 2000) (FL01-45)

FL00-46 (FEB. 11, 2000) (FL01-46)

FL00-47 (FEB. 11, 2000) (FL01-47)

FL00-48 (FEB. 11, 2000) (FL01-48)

FL00-49 (FEB. 11, 2000) (FL01-49)

FL00-50 (FEB. 11, 2000) (FL01-50)

FL00-51 (FEB. 11, 2000) (FL01-51)

FL00-52 (FEB. 11, 2000) (FL01-52)

FL00-53 (FEB. 11, 2000) (FL01-53)

FL00-54 (FEB. 11, 2000) (FL01-54)

FL00-55 (FEB. 11, 2000) (FL01-55)

FL00-56 (FEB. 11, 2000) (FL01-56)

FL00-57 (FEB. 11, 2000) (FL01-57)

FL00-58 (FEB. 11, 2000) (FL01-58)

FL00-59 (FEB. 11, 2000) (FL01-59)

FL00-60 (FEB. 11, 2000) (FL01-60)

FL00-61 (FEB. 11, 2000) (FL01-61)

FL00-62 (FEB. 11, 2000) (FL01-62)

FL00-63 (FEB. 11, 2000) (FL01-63)

FL00-64 (FEB. 11, 2000) (FL01-64)

FL00-65 (FEB. 11, 2000) (FL01-65)

FL00-66 (FEB. 11, 2000) (FL01-66)

FL00-67 (FEB. 11, 2000) (FL01-67)

FL00-68 (FEB. 11, 2000) (FL01-68)

FL00-69 (FEB. 11, 2000) (FL01-69)

FL00-70 (FEB. 11, 2000) (FL01-70)

FL00-71 (FEB. 11, 2000) (FL01-71)

FL00-72 (FEB. 11, 2000) (FL01-72)

FL00-73 (FEB. 11, 2000) (FL01-73)

FL00-74 (FEB. 11, 2000) (FL01-74)

FL00-75 (FEB. 11, 2000) (FL01-75)

FL00-76 (FEB. 11, 2000) (FL01-76)

FL00-77 (FEB. 11, 2000) (FL01-77)

FL00-78 (FEB. 11, 2000) (FL01-78)

FL00-79 (FEB. 11, 2000) (FL01-79)

FL00-80 (FEB. 11, 2000) (FL01-80)

FL00-81 (FEB. 11, 2000) (FL01-81)

FL00-82 (FEB. 11, 2000) (FL01-82)

FL00-83 (FEB. 11, 2000) (FL01-83)

FL00-84 (FEB. 11, 2000) (FL01-84)

FL00-85 (FEB. 11, 2000) (FL01-85)

FL00-86 (FEB. 11, 2000) (FL01-86)

FL00-87 (FEB. 11, 2000) (FL01-87)

FL00-88 (FEB. 11, 2000) (FL01-88)

FL00-89 (FEB. 11, 2000) (FL01-89)

FL00-90 (FEB. 11, 2000) (FL01-90)

FL00-91 (FEB. 11, 2000) (FL01-91)

FL00-92 (FEB. 11, 2000) (FL01-92)

FL00-93 (FEB. 11, 2000) (FL01-93)

FL00-94 (FEB. 11, 2000) (FL01-94)

FL00-95 (FEB. 11, 2000) (FL01-95)

FL00-96 (FEB. 11, 2000) (FL01-96)

FL00-97 (FEB. 11, 2000) (FL01-97)

FL00-98 (FEB. 11, 2000) (FL01-98)

FL00-99 (FEB. 11, 2000) (FL01-99)

FL00-100 (FEB. 11, 2000) (FL01-100)

FL00-101 (FEB. 11, 2000) (FL01-101)

FL00-102 (FEB. 11, 2000) (FL01-102)

FL00-103 (FEB. 11, 2000) (FL01-103)

FL00-104 (JUN. 02, 2000) (FL01-104)

Georgia

GA00-01 (FEB. 11, 2000) (GA01-01)

GA00-02 (FEB. 11, 2000) (GA01-02)

GA00-03 (FEB. 11, 2000) (GA01-03)

GA00-04 (FEB. 11, 2000) (GA01-04)

GA00-05 (FEB. 11, 2000) (GA01-05)

GA00-06 (FEB. 11, 2000) (GA01-06)

GA00-07 (FEB. 11, 2000) (GA01-07)

GA00-08 (FEB. 11, 2000) (GA01-08)

GA00-09 (FEB. 11, 2000) (GA01-09)

GA00-10 (FEB. 11, 2000) (GA01-10)

GA00-11 (FEB. 11, 2000) (GA01-11)

GA00-12 (FEB. 11, 2000) (GA01-12)

GA00-13 (FEB. 11, 2000) (GA01-13)

GA00-14 (FEB. 11, 2000) (GA01-14)

GA00-15 (FEB. 11, 2000) (GA01-15)

GA00-16 (FEB. 11, 2000) (GA01-16)

GA00-17 (FEB. 11, 2000) (GA01-17)

GA00-18 (FEB. 11, 2000) (GA01-18)

GA00-19 (FEB. 11, 2000) (GA01-19)

GA00-20 (FEB. 11, 2000) (GA01-20)

GA00-21 (FEB. 11, 2000) (GA01-21)

GA00-22 (FEB. 11, 2000) (GA01-22)

GA00-23 (FEB. 11, 2000) (GA01-23)

GA00-24 (FEB. 11, 2000) (GA01-24)

GA00-25 (FEB. 11, 2000) (GA01-25)

GA00-26 (FEB. 11, 2000) (GA01-26)

GA00-27 (FEB. 11, 2000) (GA01-27)

GA00-28 (FEB. 11, 2000) (GA01-28)

GA00-29 (FEB. 11, 2000) (GA01-29)

GA00-30 (FEB. 11, 2000) (GA01-30)

GA00-31 (FEB. 11, 2000) (GA01-31)

GA00-32 (FEB. 11, 2000) (GA01-32)

GA00-33 (FEB. 11, 2000) (GA01-33)

GA00-34 (FEB. 11, 2000) (GA01-34)

GA00-35 (FEB. 11, 2000) (GA01-35)

GA00-36 (FEB. 11, 2000) (GA01-36)

GA00-37 (FEB. 11, 2000) (GA01-37)

GA00-38 (FEB. 11, 2000) (GA01-38)

GA00-39 (FEB. 11, 2000) (GA01-39)

GA00-40 (FEB. 11, 2000) (GA01-40)

GA00-41 (FEB. 11, 2000) (GA01-41)

GA00-42 (FEB. 11, 2000) (GA01-42)

GA00-43 (FEB. 11, 2000) (GA01-43)

GA00-44 (FEB. 11, 2000) (GA01-44)

GA00-45 (FEB. 11, 2000) (GA01-45)

GA00-46 (FEB. 11, 2000) (GA01-46)

GA00-47 (FEB. 11, 2000) (GA01-47)

GA00-48 (FEB. 11, 2000) (GA01-48)

GA00-49 (FEB. 11, 2000) (GA01-49)

GA00-50 (FEB. 11, 2000) (GA01-50)

GA00-51 (FEB. 11, 2000) (GA01-51)

GA00-52 (FEB. 11, 2000) (GA01-52)

GA00-53 (FEB. 11, 2000) (GA01-53)

GA00-54 (FEB. 11, 2000) (GA01-54)

GA00-55 (FEB. 11, 2000) (GA01-55)

GA00-56 (FEB. 11, 2000) (GA01-56)

GA00-57 (FEB. 11, 2000) (GA01-57)

GA00-58 (FEB. 11, 2000) (GA01-58)

GA00-59 (FEB. 11, 2000) (GA01-59)

GA00-60 (FEB. 11, 2000) (GA01-60)

GA00-61 (FEB. 11, 2000) (GA01-61)

GA00-62 (FEB. 11, 2000) (GA01-62)

GA00-63 (FEB. 11, 2000) (GA01-63)

GA00-64 (FEB. 11, 2000) (GA01-64)

GA00-65 (FEB. 11, 2000) (GA01-65)

GA00-66 (FEB. 11, 2000) (GA01-66)

GA00-67 (FEB. 11, 2000) (GA01-67)

GA00-68 (FEB. 11, 2000) (GA01-68)

GA00-69 (FEB. 11, 2000) (GA01-69)

GA00-70 (FEB. 11, 2000) (GA01-70)

GA00-71 (FEB. 11, 2000) (GA01-71)

GA00-72 (FEB. 11, 2000) (GA01-72)

GA00-73 (FEB. 11, 2000) (GA01-73)

GA00-74 (FEB. 11, 2000) (GA01-74)

GA00-75 (FEB. 11, 2000) (GA01-75)

GA00-76 (FEB. 11, 2000) (GA01-76)

GA00-77 (FEB. 11, 2000) (GA01-77)

GA00-78 (FEB. 11, 2000) (GA01-78)

GA00-79 (FEB. 11, 2000) (GA01-79)

GA00-80 (FEB. 11, 2000) (GA01-80)

GA00-81 (FEB. 11, 2000) (GA01-81)

GA00-82 (FEB. 11, 2000) (GA01-82)

GA00-83 (FEB. 11, 2000) (GA01-83)

GA00-84 (FEB. 11, 2000) (GA01-84)

GA00-85 (FEB. 11, 2000) (GA01-85)

GA00-86 (FEB. 11, 2000) (GA01-86)

GA00-87 (FEB. 11, 2000) (GA01-87)

GA00-88 (FEB. 11, 2000) (GA01-88)

Kentucky

KY00-01 (FEB. 11, 2000) (KY01-01)

KY00-02 (FEB. 11, 2000) (KY01-02)

KY00-03 (FEB. 11, 2000) (KY01-03)

KY00-04 (FEB. 11, 2000) (KY01-04)

KY00-05 (FEB. 11, 2000) (KY01-05)

KY00-06 (FEB. 11, 2000) (KY01-06)

KY00-07 (FEB. 11, 2000) (KY01-07)

KY00-08 (FEB. 11, 2000) (KY01-08)

KY00-09 (FEB. 11, 2000) (KY01-09)

KY00-10 (FEB. 11, 2000) (KY01-10)

KY00-11 (FEB. 11, 2000) (KY01-11)

KY00-12 (FEB. 11, 2000) (KY01-12)

KY00-13 (FEB. 11, 2000) (KY01-13)

KY00-14 (FEB. 11, 2000) (KY01-14)

KY00-15 (FEB. 11, 2000) (KY01-15)

KY00-16 (FEB. 11, 2000) (KY01-16)

KY00-17 (FEB. 11, 2000) (KY01-17)

KY00-18 (FEB. 11, 2000) (KY01-18)

KY00-19 (FEB. 11, 2000) (KY01-19)

KY00-20 (FEB. 11, 2000) (KY01-20)

KY00-21 (FEB. 11, 2000) (KY01-21)

KY00-22 (FEB. 11, 2000) (KY01-22)

KY00-23 (FEB. 11, 2000) (KY01-23)

KY00-24 (FEB. 11, 2000) (KY01-24)

KY00-25 (FEB. 11, 2000) (KY01-25)

KY00-26 (FEB. 11, 2000) (KY01-26)

KY00-27 (FEB. 11, 2000) (KY01-27)

KY00-28 (FEB. 11, 2000) (KY01-28)

KY00-29 (FEB. 11, 2000) (KY01-29)

KY00-30 (FEB. 11, 2000) (KY01-30)

KY00-31 (FEB. 11, 2000) (KY01-31)

KY00-32 (FEB. 11, 2000) (KY01-32)

KY00-33 (FEB. 11, 2000) (KY01-33)

KY00-34 (FEB. 11, 2000) (KY01-34)

KY00-35 (FEB. 11, 2000) (KY01-35)

KY00-36 (FEB. 11, 2000) (KY01-36)

KY00-37 (FEB. 11, 2000) (KY01-37)

KY00-38 (FEB. 11, 2000) (KY01-38)

KY00-39 (FEB. 11, 2000) (KY01-39)

KY00-40 (FEB. 11, 2000) (KY01-40)

KY00-41 (FEB. 11, 2000) (KY01-41)

KY00-42 (FEB. 11, 2000) (KY01-42)

KY00-43 (FEB. 11, 2000) (KY01-43)

KY00-44 (FEB. 11, 2000) (KY01-44)

KY00-45 (FEB. 11, 2000) (KY01-45)

KY00-46 (FEB. 11, 2000) (KY01-46)

KY00-47 (FEB. 11, 2000) (KY01-47)

KY00-48 (FEB. 11, 2000) (KY01-48)

KY00-49 (FEB. 11, 2000) (KY01-49)

KY00-50 (FEB. 11, 2000) (KY01-50)

KY00-51 (FEB. 11, 2000) (KY01-51)

KY00-52 (FEB. 11, 2000) (KY01-52)

KY00-53 (FEB. 11, 2000) (KY01-53)

Mississippi

MS00-01 (FEB. 11, 2000) (MS01-01)

MS00-02 (FEB. 11, 2000) (MS01-02)

MS00-03 (FEB. 11, 2000) (MS01-03)

MS00-04 (FEB. 11, 2000) (MS01-04)

MS00-05 (FEB. 11, 2000) (MS01-05)

MS00-06 (FEB. 11, 2000) (MS01-06)

MS00-07 (FEB. 11, 2000) (MS01-07)

MS00-08 (FEB. 11, 2000) (MS01-08)

MS00-09 (FEB. 11, 2000) (MS01-09)

MS00-10 (FEB. 11, 2000) (MS01-10)

MS00-11 (FEB. 11, 2000) (MS01-11)

MS00-12 (FEB. 11, 2000) (MS01-12)

MS00-13 (FEB. 11, 2000) (MS01-13)

MS00-14 (FEB. 11, 2000) (MS01-14)

MS00-15 (FEB. 11, 2000) (MS01-15)

MS00-16 (FEB. 11, 2000) (MS01-16)

MS00-17 (FEB. 11, 2000) (MS01-17)

MS00-18 (FEB. 11, 2000) (MS01-18)

MS00-19 (FEB. 11, 2000) (MS01-19)

MS00-20 (FEB. 11, 2000) (MS01-20)

MS00-21 (FEB. 11, 2000) (MS01-21)

MS00-22 (FEB. 11, 2000) (MS01-22)

MS00-23 (FEB. 11, 2000) (MS01-23)

MS00-24 (FEB. 11, 2000) (MS01-24)

MS00-25 (FEB. 11, 2000) (MS01-25)

MS00-26 (FEB. 11, 2000) (MS01-26)

MS00-27 (FEB. 11, 2000) (MS01-27)

MS00-28 (FEB. 11, 2000) (MS01-28)

MS00-29 (FEB. 11, 2000) (MS01-29)

MS00-30 (FEB. 11, 2000) (MS01-30)

MS00-31 (FEB. 11, 2000) (MS01-31)

MS00-32 (FEB. 11, 2000) (MS01-32)

MS00-33 (FEB. 11, 2000) (MS01-33)

MS00-34 (FEB. 11, 2000) (MS01-34)

MS00-35 (FEB. 11, 2000) (MS01-35)

MS00-36 (FEB. 11, 2000) (MS01-36)

MS00-37 (FEB. 11, 2000) (MS01-37)

MS00-38 (FEB. 11, 2000) (MS01-38)

MS00-39 (FEB. 11, 2000) (MS01-39)

MS00-40 (FEB. 11, 2000) (MS01-40)

MS00-41 (FEB. 11, 2000) (MS01-41)

MS00-42 (FEB. 11, 2000) (MS01-42)

MS00-43 (FEB. 11, 2000) (MS01-43)

MS00-44 (FEB. 11, 2000) (MS01-44)

MS00-45 (FEB. 11, 2000) (MS01-45)

MS00-46 (FEB. 11, 2000) (MS01-46)

MS00-47 (FEB. 11, 2000) (MS01-47)

MS00-48 (FEB. 11, 2000) (MS01-48)

MS00-49 (FEB. 11, 2000) (MS01-49)

MS00-50 (FEB. 11, 2000) (MS01-50)

MS00-51 (FEB. 11, 2000) (MS01-51)

MS00-52 (FEB. 11, 2000) (MS01-52)

MS00-53 (FEB. 11, 2000) (MS01-53)

MS00-54 (FEB. 11, 2000) (MS01-54)

MS00-55 (FEB. 11, 2000) (MS01-55)

MS00-56 (FEB. 11, 2000) (MS01-56)

MS00-57 (FEB. 11, 2000) (MS01-57)

North Carolina

NC00-01 (FEB. 11, 2000) (NC01-01)

NC00-02 (FEB. 11, 2000) (NC01-02)

NC00-03 (FEB. 11, 2000) (NC01-03)

NC00-04 (FEB. 11, 2000) (NC01-04)

NC00-05 (FEB. 11, 2000) (NC01-05)

NC00-06 (FEB. 11, 2000) (NC01-06)

NC00-07 (FEB. 11, 2000) (NC01-07)

NC00-08 (FEB. 11, 2000) (NC01-08)

NC00-09 (FEB. 11, 2000) (NC01-09)

NC00-10 (FEB. 11, 2000) (NC01-10)

NC00-11 (FEB. 11, 2000) (NC01-11)

NC00-12 (FEB. 11, 2000) (NC01-12)

NC00-13 (FEB. 11, 2000) (NC01-13)

NC00-14 (FEB. 11, 2000) (NC01-14)

NC00-15 (FEB. 11, 2000) (NC01-15)

NC00-16 (FEB. 11, 2000) (NC01-16)

NC00-17 (FEB. 11, 2000) (NC01-17)

NC00-18 (FEB. 11, 2000) (NC01-18)

NC00-19 (FEB. 11, 2000) (NC01-19)

NC00-20 (FEB. 11, 2000) (NC01-20)

NC00-21 (FEB. 11, 2000) (NC01-21)

NC00-22 (FEB. 11, 2000) (NC01-22)

NC00-23 (FEB. 11, 2000) (NC01-23)

NC00-24 (FEB. 11, 2000) (NC01-24)

NC00-25 (FEB. 11, 2000) (NC01-25)

NC00-26 (FEB. 11, 2000) (NC01-26)

NC00-27 (FEB. 11, 2000) (NC01-27)

NC00-28 (FEB. 11, 2000) (NC01-28)

NC00-29 (FEB. 11, 2000) (NC01-29)

NC00-30 (FEB. 11, 2000) (NC01-30)

NC00-31 (FEB. 11, 2000) (NC01-31)

NC00-32 (FEB. 11, 2000) (NC01-32)

NC00-33 (FEB. 11, 2000) (NC01-33)

NC00-34 (FEB. 11, 2000) (NC01-34)

NC00-35 (FEB. 11, 2000) (NC01-35)

NC00-36 (FEB. 11, 2000) (NC01-36)

NC00-37 (FEB. 11, 2000) (NC01-37)

NC00-38 (FEB. 11, 2000) (NC01-38)

NC00-39 (FEB. 11, 2000) (NC01-39)

NC00-40 (FEB. 11, 2000) (NC01-40)

NC00-41 (FEB. 11, 2000) (NC01-41)

NC00-42 (FEB. 11, 2000) (NC01-42)

NC00-43 (FEB. 11, 2000) (NC01-43)

NC00-44 (FEB. 11, 2000) (NC01-44)

NC00-45 (FEB. 11, 2000) (NC01-45)

NC00-46 (FEB. 11, 2000) (NC01-46)

NC00-47 (FEB. 11, 2000) (NC01-47)

NC00-48 (FEB. 11, 2000) (NC01-48)

NC00-49 (FEB. 11, 2000) (NC01-49)

NC00-50 (FEB. 11, 2000) (NC01-50)

NC00-51 (FEB. 11, 2000) (NC01-51)

NC00-52 (FEB. 11, 2000) (NC01-52)

NC00-53 (FEB. 11, 2000) (NC01-53)

NC00-54 (FEB. 11, 2000) (NC01-54)

NC00-55 (FEB. 11, 2000) (NC01-55)

South Carolina

SC00-01 (FEB. 11, 2000) (SC01-01)

SC00-02 (FEB. 11, 2000) (SC01-02)

SC00-03 (FEB. 11, 2000) (SC01-03)

SC00-04 (FEB. 11, 2000) (SC01-04)

SC00-05 (FEB. 11, 2000) (SC01-05)

SC00-06 (FEB. 11, 2000) (SC01-06)

SC00-07 (FEB. 11, 2000) (SC01-07)

SC00-08 (FEB. 11, 2000) (SC01-08)

SC00-09 (FEB. 11, 2000) (SC01-09)

SC00-10 (FEB. 11, 2000) (SC01-10)

SC00-11 (FEB. 11, 2000) (SC01-11)

SC00-12 (FEB. 11, 2000) (SC01-12)

SC00-13 (FEB. 11, 2000) (SC01-13)

SC00-14 (FEB. 11, 2000) (SC01-14)

SC00-15 (FEB. 11, 2000) (SC01-15)

SC00-16 (FEB. 11, 2000) (SC01-16)

SC00-17 (FEB. 11, 2000) (SC01-17)

SC00-18 (FEB. 11, 2000) (SC01-18)

SC00-19 (FEB. 11, 2000) (SC01-19)

SC00-20 (FEB. 11, 2000) (SC01-20)

SC00-21 (FEB. 11, 2000) (SC01-21)

SC00-22 (FEB. 11, 2000) (SC01-22)

SC00-23 (FEB. 11, 2000) (SC01-23)

SC00-24 (FEB. 11, 2000) (SC01-24)

SC00-25 (FEB. 11, 2000) (SC01-25)

SC00-26 (FEB. 11, 2000) (SC01-26)

SC00-27 (FEB. 11, 2000) (SC01-27)

SC00-28 (FEB. 11, 2000) (SC01-28)

SC00-29 (FEB. 11, 2000) (SC01-29)

SC00-30 (FEB. 11, 2000) (SC01-30)

SC00-31 (FEB. 11, 2000) (SC01-31)

SC00-32 (FEB. 11, 2000) (SC01-32)

SC00-33 (FEB. 11, 2000) (SC01-33)

SC00-34 (FEB. 11, 2000) (SC01-34)

SC00-35 (FEB. 11, 2000) (SC01-35)

SC00-36 (FEB. 11, 2000) (SC01-36)

SC00-37 (FEB. 11, 2000) (SC01-37)

Tennessee

TN00-01 (FEB. 11, 2000) (TN01-01)

TN00-02 (FEB. 11, 2000) (TN01-02)

TN00-03 (FEB. 11, 2000) (TN01-03)

TN00-04 (FEB. 11, 2000) (TN01-04)

TN00-05 (FEB. 11, 2000) (TN01-05)

TN00-06 (FEB. 11, 2000) (TN01-06)

TN00-07 (FEB. 11, 2000) (TN01-07)

TN00-08 (FEB. 11, 2000) (TN01-08)

TN00-09 (FEB. 11, 2000) (TN01-09)

TN00-10 (FEB. 11, 2000) (TN01-10)

TN00-11 (FEB. 11, 2000) (TN01-11)

TN00-12 (FEB. 11, 2000) (TN01-12)

TN00-13 (FEB. 11, 2000) (TN01-13)

TN00-14 (FEB. 11, 2000) (TN01-14)

TN00-15 (FEB. 11, 2000) (TN01-15)

TN00-16 (FEB. 11, 2000) (TN01-16)

TN00-17 (FEB. 11, 2000) (TN01-17)

TN00-18 (FEB. 11, 2000) (TN01-18)

TN00-19 (FEB. 11, 2000) (TN01-19)

TN00-20 (FEB. 11, 2000) (TN01-20)

TN00-21 (FEB. 11, 2000) (TN01-21)

TN00-22 (FEB. 11, 2000) (TN01-22)

TN00-23 (FEB. 11, 2000) (TN01-23)

TN00-24 (FEB. 11, 2000) (TN01-24)

TN00-25 (FEB. 11, 2000) (TN01-25)

TN00-26 (FEB. 11, 2000) (TN01-26)

TN00-27 (FEB. 11, 2000) (TN01-27)

TN00-28 (FEB. 11, 2000) (TN01-28)

TN00-29 (FEB. 11, 2000) (TN01-29)

TN00-30 (FEB. 11, 2000) (TN01-30)

TN00-31 (FEB. 11, 2000) (TN01-31)

TN00-32 (FEB. 11, 2000) (TN01-32)

TN00-33 (FEB. 11, 2000) (TN01-33)

TN00-34 (FEB. 11, 2000) (TN01-34)

TN00-35 (FEB. 11, 2000) (TN01-35)

TN00-36 (FEB. 11, 2000) (TN01-36)

TN00-37 (FEB. 11, 2000) (TN01-37)

TN00-38 (FEB. 11, 2000) (TN01-38)

TN00-39 (FEB. 11, 2000) (TN01-39)

TN00-40 (FEB. 11, 2000) (TN01-40)

TN00-41 (FEB. 11, 2000) (TN01-41)

TN00-42 (FEB. 11, 2000) (TN01-42)

TN00-43 (FEB. 11, 2000) (TN01-43)

TN00-44 (FEB. 11, 2000) (TN01-44)

TN00-45 (FEB. 11, 2000) (TN01-45)

TN00-46 (FEB. 11, 2000) (TN01-46)

TN00-47 (FEB. 11, 2000) (TN01-47)

TN00-48 (FEB. 11, 2000) (TN01-48)

TN00-49 (FEB. 11, 2000) (TN01-49)

TN00-50 (FEB. 11, 2000) (TN01-50)

TN00-51 (FEB. 11, 2000) (TN01-51)

TN00-52 (FEB. 11, 2000) (TN01-52)

TN00-53 (FEB. 11, 2000) (TN01-53)

TN00-54 (FEB. 11, 2000) (TN01-54)

TN00-55 (FEB. 11, 2000) (TN01-55)

TN00-56 (FEB. 11, 2000) (TN01-56)

TN00-57 (FEB. 11, 2000) (TN01-57)

TN00-58 (FEB. 11, 2000) (TN01-58)

TN00-59 (FEB. 11, 2000) (TN01-59)

TN00-60 (FEB. 11, 2000) (TN01-60)

TN00-61 (FEB. 11, 2000) (TN01-61)

TN00-62 (FEB. 11, 2000) (TN01-62)

TN00-63 (FEB. 11, 2000) (TN01-63)

TN00-64 (FEB. 11, 2000) (TN01-64)

TN00-65 (FEB. 11, 2000) (TN01-65)

TN00-66 (FEB. 11, 2000) (TN01-66)

Volume IV

Illinois

IL00-01 (FEB. 11, 2000) (IL01-01)

IL00-02 (FEB. 11, 2000) (IL01-02)

IL00-03 (FEB. 11, 2000) (IL01-03)

IL00-04 (FEB. 11, 2000) (IL01-04)

IL00-05 (FEB. 11, 2000) (IL01-05)

IL00-06 (FEB. 11, 2000) (IL01-06)

IL00-07 (FEB. 11, 2000) (IL01-07)

IL00-08 (FEB. 11, 2000) (IL01-08)

IL00-09 (FEB. 11, 2000) (IL01-09)

IL00-10 (FEB. 11, 2000) (IL01-10)

IL00-11 (FEB. 11, 2000) (IL01-11)

IL00-12 (FEB. 11, 2000) (IL01-12)

IL00-13 (FEB. 11, 2000) (IL01-13)

IL00-14 (FEB. 11, 2000) (IL01-14)

IL00-15 (FEB. 11, 2000) (IL01-15)

IL00-16 (FEB. 11, 2000) (IL01-16)

IL00-17 (FEB. 11, 2000) (IL01-17)

IL00-18 (FEB. 11, 2000) (IL01-18)

IL00-19 (FEB. 11, 2000) (IL01-19)

IL00-20 (FEB. 11, 2000) (IL01-20)

IL00-21 (FEB. 11, 2000) (IL01-21)

IL00-22 (FEB. 11, 2000) (IL01-22)

IL00-23 (FEB. 11, 2000) (IL01-23)

IL00-24 (FEB. 11, 2000) (IL01-24)

IL00-25 (FEB. 11, 2000) (IL01-25)

IL00-26 (FEB. 11, 2000) (IL01-26)

IL00-27 (FEB. 11, 2000) (IL01-27)

IL00-28 (FEB. 11, 2000) (IL01-28)

IL00-29 (FEB. 11, 2000) (IL01-29)

IL00-30 (FEB. 11, 2000) (IL01-30)

IL00-31 (FEB. 11, 2000) (IL01-31)

IL00-32 (FEB. 11, 2000) (IL01-32)

IL00-33 (FEB. 11, 2000) (IL01-33)

IL00-34 (FEB. 11, 2000) (IL01-34)

IL00-35 (FEB. 11, 2000) (IL01-35)

IL00-36 (FEB. 11, 2000) (IL01-36)

IL00-37 (FEB. 11, 2000) (IL01-37)

IL00-38 (FEB. 11, 2000) (IL01-38)

IL00-39 (FEB. 11, 2000) (IL01-39)

IL00-40 (FEB. 11, 2000) (IL01-40)

IL00-41 (FEB. 11, 2000) (IL01-41)

IL00-42 (FEB. 11, 2000) (IL01-42)

IL00-43 (FEB. 11, 2000) (IL01-43)

IL00-44 (FEB. 11, 2000) (IL01-44)

IL00-45 (FEB. 11, 2000) (IL01-45)

IL00-46 (FEB. 11, 2000) (IL01-46)

IL00-47 (FEB. 11, 2000) (IL01-47)

IL00-48 (FEB. 11, 2000) (IL01-48)

IL00-49 (FEB. 11, 2000) (IL01-49)

IL00-50 (FEB. 11, 2000) (IL01-50)

IL00-51 (FEB. 11, 2000) (IL01-51)

IL00-52 (FEB. 11, 2000) (IL01-52)

IL00-53 (FEB. 11, 2000) (IL01-53)

IL00-54 (FEB. 11, 2000) (IL01-54)

IL00-55 (FEB. 11, 2000) (IL01-55)

IL00-56 (FEB. 11, 2000) (IL01-56)

IL00-57 (FEB. 11, 2000) (IL01-57)

IL00-58 (FEB. 11, 2000) (IL01-58)

IL00-59 (FEB. 11, 2000) (IL01-59)

IL00-60 (FEB. 11, 2000) (IL01-60)

IL00-61 (FEB. 11, 2000) (IL01-61)

IL00-62 (FEB. 11, 2000) (IL01-62)

IL00-63 (FEB. 11, 2000) (IL01-63)

IL00-64 (FEB. 11, 2000) (IL01-64)

IL00-65 (FEB. 11, 2000) (IL01-65)

IL00-66 (FEB. 11, 2000) (IL01-66)

IL00-67 (FEB. 11, 2000) (IL01-67)

IL00-68 (FEB. 11, 2000) (IL01-68)

IL00-69 (FEB. 11, 2000) (IL01-69)

IL00-70 (FEB. 11, 2000) (IL01-70)

Indiana

IN00-01 (FEB. 11, 2000) (IN01-01)

IN00-02 (FEB. 11, 2000) (IN01-02)

IN00-03 (FEB. 11, 2000) (IN01-03)

IN00-04 (FEB. 11, 2000) (IN01-04)

IN00-05 (FEB. 11, 2000) (IN01-05)

IN00-06 (FEB. 11, 2000) (IN01-06)

IN00-07 (FEB. 11, 2000) (IN01-07)

IN00-08 (FEB. 11, 2000) (IN01-08)

IN00-09 (FEB. 11, 2000) (IN01-09)

IN00-10 (FEB. 11, 2000) (IN01-10)

IN00-11 (FEB. 11, 2000) (IN01-11)

IN00-12 (FEB. 11, 2000) (IN01-12)

IN00-13 (FEB. 11, 2000) (IN01-13)

IN00-14 (FEB. 11, 2000) (IN01-14)

IN00-15 (FEB. 11, 2000) (IN01-15)

IN00-16 (FEB. 11, 2000) (IN01-16)

IN00-17 (FEB. 11, 2000) (IN01-17)

IN00-18 (FEB. 11, 2000) (IN01-18)

IN00-19 (FEB. 11, 2000) (IN01-19)

IN00-20 (FEB. 11, 2000) (IN01-20)

IN00-21 (FEB. 11, 2000) (IN01-21)

IN00-22 (FEB. 11, 2000) (IN01-22)

IN00-23 (FEB. 11, 2000) (IN01-23)

IN00-24 (FEB. 11, 2000) (IN01-24)

IN00-25 (FEB. 11, 2000) (IN01-25)

IN00-26 (FEB. 11, 2000) (IN01-26)

IN00-27 (FEB. 11, 2000) (IN01-27)

IN00-28 (FEB. 11, 2000) (IN01-28)

IN00-29 (FEB. 11, 2000) (IN01-29)

IN00-30 (FEB. 11, 2000) (IN01-30)

IN00-31 (FEB. 11, 2000) (IN01-31)

IN00-32 (FEB. 11, 2000) (IN01-32)

IN00-33 (FEB. 11, 2000) (IN01-33)

IN00-34 (FEB. 11, 2000) (IN01-34)

IN00-35 (FEB. 11, 2000) (IN01-35)

IN00-36 (FEB. 11, 2000) (IN01-36)

IN00-37 (FEB. 11, 2000) (IN01-37)

IN00-38 (FEB. 11, 2000) (IN01-38)

IN00-39 (FEB. 11, 2000) (IN01-39)

IN00-40 (FEB. 11, 2000) (IN01-40)

IN00-41 (FEB. 11, 2000) (IN01-41)

IN00-42 (FEB. 11, 2000) (IN01-42)

IN00-43 (FEB. 11, 2000) (IN01-43)

IN00-44 (FEB. 11, 2000) (IN01-44)

IN00-45 (FEB. 11, 2000) (IN01-45)

IN00-46 (FEB. 11, 2000) (IN01-46)

IN00-47 (FEB. 11, 2000) (IN01-47)

IN00-48 (FEB. 11, 2000) (IN01-48)

IN00-49 (FEB. 11, 2000) (IN01-49)

Michigan

MI00-01 (FEB. 11, 2000) (MI01-01)

MI00-02 (FEB. 11, 2000) (MI01-02)

MI00-03 (FEB. 11, 2000) (MI01-03)

MI00-04 (FEB. 11, 2000) (MI01-04)

MI00-05 (FEB. 11, 2000) (MI01-05)

MI00-06 (FEB. 11, 2000) (MI01-06)

MI00-07 (FEB. 11, 2000) (MI01-07)

MI00-08 (FEB. 11, 2000) (MI01-08)

MI00-09 (FEB. 11, 2000) (MI01-09)

MI00-10 (FEB. 11, 2000) (MI01-10)

MI00-11 (FEB. 11, 2000) (MI01-11)

MI00-12 (FEB. 11, 2000) (MI01-12)

MI00-13 (FEB. 11, 2000) (MI01-13)

MI00-14 (FEB. 11, 2000) (MI01-14)

MI00-15 (FEB. 11, 2000) (MI01-15)

MI00-16 (FEB. 11, 2000) (MI01-16)

MI00-17 (FEB. 11, 2000) (MI01-17)

MI00-18 (FEB. 11, 2000) (MI01-18)

MI00-19 (FEB. 11, 2000) (MI01-19)

MI00-20 (FEB. 11, 2000) (MI01-20)

MI00-21 (FEB. 11, 2000) (MI01-21)

MI00-22 (FEB. 11, 2000) (MI01-22)

MI00-23 (FEB. 11, 2000) (MI01-23)

MI00-24 (FEB. 11, 2000) (MI01-24)

MI00-25 (FEB. 11, 2000) (MI01-25)

MI00-26 (FEB. 11, 2000) (MI01-26)

MI00-27 (FEB. 11, 2000) (MI01-27)

MI00-28 (FEB. 11, 2000) (MI01-28)

MI00-29 (FEB. 11, 2000) (MI01-29)

MI00-30 (FEB. 11, 2000) (MI01-30)

MI00-31 (FEB. 11, 2000) (MI01-31)

MI00-32 (FEB. 11, 2000) (MI01-32)

MI00-33 (FEB. 11, 2000) (MI01-33)

MI00-34 (FEB. 11, 2000) (MI01-34)

MI00-35 (FEB. 11, 2000) (MI01-35)

MI00-36 (FEB. 11, 2000) (MI01-36)

MI00-37 (FEB. 11, 2000) (MI01-37)

MI00-38 (FEB. 11, 2000) (MI01-38)

MI00-39 (FEB. 11, 2000) (MI01-39)

MI00-40 (FEB. 11, 2000) (MI01-40)

MI00-41 (FEB. 11, 2000) (MI01-41)

MI00-42 (FEB. 11, 2000) (MI01-42)

MI00-43 (FEB. 11, 2000) (MI01-43)

MI00-44 (FEB. 11, 2000) (MI01-44)

MI00-45 (FEB. 11, 2000) (MI01-45)

MI00-46 (FEB. 11, 2000) (MI01-46)

MI00-47 (FEB. 11, 2000) (MI01-47)

MI00-48 (FEB. 11, 2000) (MI01-48)

MI00-49 (FEB. 11, 2000) (MI01-49)

MI00-50 (FEB. 11, 2000) (MI01-50)

MI00-51 (FEB. 11, 2000) (MI01-51)

MI00-52 (FEB. 11, 2000) (MI01-52)

MI00-53 (FEB. 11, 2000) (MI01-53)

MI00-54 (FEB. 11, 2000) (MI01-54)

MI00-55 (FEB. 11, 2000) (MI01-55)

MI00-56 (FEB. 11, 2000) (MI01-56)

MI00-57 (FEB. 11, 2000) (MI01-57)

MI00-58 (FEB. 11, 2000) (MI01-58)

MI00-59 (FEB. 11, 2000) (MI01-59)

MI00-60 (FEB. 11, 2000) (MI01-60)

MI00-61 (FEB. 11, 2000) (MI01-61)

MI00-62 (FEB. 11, 2000) (MI01-62)

MI00-63 (FEB. 11, 2000) (MI01-63)

MI00-64 (FEB. 11, 2000) (MI01-64)

MI00-65 (FEB. 11, 2000) (MI01-65)

MI00-66 (FEB. 11, 2000) (MI01-66)

MI00-67 (FEB. 11, 2000) (MI01-67)

MI00-68 (FEB. 11, 2000) (MI01-68)

MI00-69 (FEB. 11, 2000) (MI01-69)

MI00-70 (FEB. 11, 2000) (MI01-70)

MI00-71 (FEB. 11, 2000) (MI01-71)

MI00-72 (FEB. 11, 2000) (MI01-72)

MI00-73 (FEB. 11, 2000) (MI01-73)

MI00-74 (FEB. 11, 2000) (MI01-74)

MI00-75 (FEB. 11, 2000) (MI01-75)

MI00-76 (FEB. 11, 2000) (MI01-76)

MI00-77 (FEB. 11, 2000) (MI01-77)

MI00-78 (FEB. 11, 2000) (MI01-78)

MI00-79 (FEB. 11, 2000) (MI01-79)

MI00-80 (FEB. 11, 2000) (MI01-80)

MI00-81 (FEB. 11, 2000) (MI01-81)

MI00-82 (FEB. 11, 2000) (MI01-82)

MI00-83 (FEB. 11, 2000) (MI01-83)

MI00-84 (FEB. 11, 2000) (MI01-84)

MI00-85 (FEB. 11, 2000) (MI01-85)

MI00-86 (FEB. 11, 2000) (MI01-86)

MI00-87 (FEB. 11, 2000) (MI01-87)

MI00-88 (FEB. 11, 2000) (MI01-88)

MI00-89 (MAY 19, 2000) (MI01-89)

MI00-90 (MAY 19, 2000) (MI01-90)

MI00-91 (MAY 19, 2000) (MI01-91)

MI00-92 (MAY 19, 2000) (MI01-92)

MI00-93 (MAY 19, 2000) (MI01-93)

MI00-94 (MAY 19, 2000) (MI01-94)

MI00-95 (MAY 19, 2000) (MI01-95)

MI00-96 (MAY 19, 2000) (MI01-96)

MI00-97 (MAY 19, 2000) (MI01-97)

MI00-98 (JUNE 16, 2000) (MI01-98)

MI00-99 (JUNE 16, 2000) (MI01-99)

MI00-100 (JUNE 16, 2000) (MI01-100)

MI00-101 (JUNE 16, 2000) (MI01-101)

Minnesota

MN00-01 (FEB. 11, 2000) (MN01-01)

MN00-01 (FEB. 11, 2000) (MN01-02)

MN00-03 (FEB. 11, 2000) (MN01-03)

MN00-04 (FEB. 11, 2000) (MN01-04)

MN00-05 (FEB. 11, 2000) (MN01-05)

MN00-06 (FEB. 11, 2000) (MN01-06)

MN00-07 (FEB. 11, 2000) (MN01-07)

MN00-08 (FEB. 11, 2000) (MN01-08)

MN00-09 (FEB. 11, 2000) (MN01-09)

MN00-10 (FEB. 11, 2000) (MN01-10)

MN00-11 (FEB. 11, 2000) (MN01-11)

MN00-12 (FEB. 11, 2000) (MN01-12)

MN00-13 (FEB. 11, 2000) (MN01-13)

MN00-14 (FEB. 11, 2000) (MN01-14)

MN00-15 (FEB. 11, 2000) (MN01-15)

MN00-16 (FEB. 11, 2000) (MN01-16)

MN00-17 (FEB. 11, 2000) (MN01-17)

MN00-18 (FEB. 11, 2000) (MN01-18)

MN00-19 (FEB. 11, 2000) (MN01-19)

MN00-20 (FEB. 11, 2000) (MN01-20)

MN00-21 (FEB. 11, 2000) (MN01-21)

MN00-22 (FEB. 11, 2000) (MN01-22)

MN00-23 (FEB. 11, 2000) (MN01-23)

MN00-24 (FEB. 11, 2000) (MN01-24)

MN00-25 (FEB. 11, 2000) (MN01-25)

MN00-26 (FEB. 11, 2000) (MN01-26)

MN00-27 (FEB. 11, 2000) (MN01-27)

MN00-28 (FEB. 11, 2000) (MN01-28)

MN00-29 (FEB. 11, 2000) (MN01-29)

MN00-30 (FEB. 11, 2000) (MN01-30)

MN00-31 (FEB. 11, 2000) (MN01-31)

MN00-32 (FEB. 11, 2000) (MN01-32)

MN00-33 (FEB. 11, 2000) (MN01-33)

MN00-34 (FEB. 11, 2000) (MN01-34)

MN00-35 (FEB. 11, 2000) (MN01-35)

MN00-36 (FEB. 11, 2000) (MN01-36)

MN00-37 (FEB. 11, 2000) (MN01-37)

MN00-38 (FEB. 11, 2000) (MN01-38)

MN00-39 (FEB. 11, 2000) (MN01-39)

MN00-40 (FEB. 11, 2000) (MN01-40)

MN00-41 (FEB. 11, 2000) (MN01-41)

MN00-42 (FEB. 11, 2000) (MN01-42)

MN00-43 (FEB. 11, 2000) (MN01-43)

MN00-44 (FEB. 11, 2000) (MN01-44)

MN00-45 (FEB. 11, 2000) (MN01-45)

MN00-46 (FEB. 11, 2000) (MN01-46)

MN00-47 (FEB. 11, 2000) (MN01-47)

MN00-48 (FEB. 11, 2000) (MN01-48)

MN00-49 (FEB. 11, 2000) (MN01-49)

MN00-50 (FEB. 11, 2000) (MN01-50)

MN00-51 (FEB. 11, 2000) (MN01-51)

MN00-52 (FEB. 11, 2000) (MN01-52)

MN00-53 (FEB. 11, 2000) (MN01-53)

MN00-54 (FEB. 11, 2000) (MN01-54)

MN00-55 (FEB. 11, 2000) (MN01-55)

MN00-56 (FEB. 11, 2000) (MN01-56)

MN00-57 (FEB. 11, 2000) (MN01-57)

MN00-58 (FEB. 11, 2000) (MN01-58)

MN00-59 (FEB. 11, 2000) (MN01-59)

MN00-60 (FEB. 11, 2000) (MN01-60)

MN00-61 (FEB. 11, 2000) (MN01-61)

MN00-62 (FEB. 11, 2000) (MN01-62)

Ohio

OH00-01 (FEB. 11, 2000) (OH01-01)

OH00-02 (FEB. 11, 2000) (OH01-02)

OH00-03 (FEB. 11, 2000) (OH01-03)

OH00-04 (FEB. 11, 2000) (OH01-04)

OH00-05 (FEB. 11, 2000) (OH01-05)

OH00-06 (FEB. 11, 2000) (OH01-06)

OH00-07 (FEB. 11, 2000) (OH01-07)

OH00-08 (FEB. 11, 2000) (OH01-08)

OH00-09 (FEB. 11, 2000) (OH01-09)

OH00-10 (FEB. 11, 2000) (OH01-10)

OH00-11 (FEB. 11, 2000) (OH01-11)

OH00-12 (FEB. 11, 2000) (OH01-12)

OH00-13 (FEB. 11, 2000) (OH01-13)

OH00-14 (FEB. 11, 2000) (OH01-14)

OH00-15 (FEB. 11, 2000) (OH01-15)

OH00-16 (FEB. 11, 2000) (OH01-16)

OH00-17 (FEB. 11, 2000) (OH01-17)

OH00-18 (FEB. 11, 2000) (OH01-18)

OH00-19 (FEB. 11, 2000) (OH01-19)

OH00-20 (FEB. 11, 2000) (OH01-20)

OH00-21 (FEB. 11, 2000) (OH01-21)

OH00-22 (FEB. 11, 2000) (OH01-22)

OH00-23 (FEB. 11, 2000) (OH01-23)

OH00-24 (FEB. 11, 2000) (OH01-24)

OH00-25 (FEB. 11, 2000) (OH01-25)

OH00-26 (FEB. 11, 2000) (OH01-26)

OH00-27 (FEB. 11, 2000) (OH01-27)

OH00-28 (FEB. 11, 2000) (OH01-28)

OH00-29 (FEB. 11, 2000) (OH01-29)

OH00-30 (FEB. 11, 2000) (OH01-30)

OH00-31 (FEB. 11, 2000) (OH01-31)

Wisconsin

WI00-01 (FEB. 11, 2000) (WI01-01)

WI00-02 (FEB. 11, 2000) (WI01-02)

WI00-03 (FEB. 11, 2000) (WI01-03)

WI00-04 (FEB. 11, 2000) (WI01-04)

WI00-05 (FEB. 11, 2000) (WI01-05)

WI00-06 (FEB. 11, 2000) (WI01-06)

WI00-07 (FEB. 11, 2000) (WI01-07)

WI00-08 (FEB. 11, 2000) (WI01-08)

WI00-09 (FEB. 11, 2000) (WI01-09)

WI00-10 (FEB. 11, 2000) (WI01-10)

WI00-11 (FEB. 11, 2000) (WI01-11)

WI00-12 (FEB. 11, 2000) (WI01-12)

WI00-13 (FEB. 11, 2000) (WI01-13)

WI00-14 (FEB. 11, 2000) (WI01-14)

WI00-15 (FEB. 11, 2000) (WI01-15)

WI00-16 (FEB. 11, 2000) (WI01-16)

WI00-17 (FEB. 11, 2000) (WI01-17)

WI00-18 (FEB. 11, 2000) (WI01-18)

WI00-19 (FEB. 11, 2000) (WI01-19)

WI00-20 (FEB. 11, 2000) (WI01-20)

WI00-21 (FEB. 11, 2000) (WI01-21)

WI00-22 (FEB. 11, 2000) (WI01-22)

WI00-23 (FEB. 11, 2000) (WI01-23)

WI00-24 (FEB. 11, 2000) (WI01-24)

WI00-25 (FEB. 11, 2000) (WI01-25)

WI00-26 (FEB. 11, 2000) (WI01-26)

WI00-27 (FEB. 11, 2000) (WI01-27)

WI00-28 (FEB. 11, 2000) (WI01-28)

WI00-29 (FEB. 11, 2000) (WI01-29)

WI00-30 (FEB. 11, 2000) (WI01-30)

WI00-31 (FEB. 11, 2000) (WI01-31)

WI00-32 (FEB. 11, 2000) (WI01-32)

WI00-33 (FEB. 11, 2000) (WI01-33)

WI00-34 (FEB. 11, 2000) (WI01-34)

WI00-35 (FEB. 11, 2000) (WI01-35)

WI00-36 (FEB. 11, 2000) (WI01-36)

WI00-37 (FEB. 11, 2000) (WI01-37)

WI00-38 (FEB. 11, 2000) (WI01-38)

WI00-39 (FEB. 11, 2000) (WI01-39)

WI00-40 (FEB. 11, 2000) (WI01-40)

WI00-41 (FEB. 11, 2000) (WI01-41)

WI00-42 (FEB. 11, 2000) (WI01-42)

WI00-43 (FEB. 11, 2000) (WI01-43)

WI00-44 (FEB. 11, 2000) (WI01-44)

WI00-45 (FEB. 11, 2000) (WI01-45)

WI00-46 (FEB. 11, 2000) (WI01-46)

WI00-47 (FEB. 11, 2000) (WI01-47)

WI00-48 (FEB. 11, 2000) (WI01-48)

WI00-49 (FEB. 11, 2000) (WI01-49)

WI00-50 (FEB. 11, 2000) (WI01-50)

WI00-51 (FEB. 11, 2000) (WI01-51)

WI00-52 (FEB. 11, 2000) (WI01-52)

WI00-53 (FEB. 11, 2000) (WI01-53)

WI00-54 (FEB. 11, 2000) (WI01-54)

WI00-55 (FEB. 11, 2000) (WI01-55)

WI00-56 (FEB. 11, 2000) (WI01-56)

WI00-57 (FEB. 11, 2000) (WI01-57)

WI00-58 (FEB. 11, 2000) (WI01-58)

WI00-59 (FEB. 11, 2000) (WI01-59)

WI00-60 (FEB. 11, 2000) (WI01-60)

WI00-61 (FEB. 11, 2000) (WI01-61)

WI00-62 (FEB. 11, 2000) (WI01-62)

WI00-63 (FEB. 11, 2000) (WI01-63)

WI00-64 (FEB. 11, 2000) (WI01-64)

WI00-65 (FEB. 11, 2000) (WI01-65)

WI00-66 (FEB. 11, 2000) (WI01-66)

WI00-67 (FEB. 11, 2000) (WI01-67)

WI00-68 (FEB. 11, 2000) (WI01-68)

WI00-69 (FEB. 11, 2000) (WI01-69)

Volume V

Arkansas

AR00-01 (FEB. 11, 2000) (AR01-01)

AR00-02 (FEB. 11, 2000) (AR01-02)

AR00-03 (FEB. 11, 2000) (AR01-03)

AR00-04 (FEB. 11, 2000) (AR01-04)

AR00-05 (FEB. 11, 2000) (AR01-05)

AR00-06 (FEB. 11, 2000) (AR01-06)

AR00-07 (FEB. 11, 2000) (AR01-07)

AR00-08 (FEB. 11, 2000) (AR01-08)

AR00-09 (FEB. 11, 2000) (AR01-09)

AR00-10 (FEB. 11, 2000) (AR01-10)

AR00-11 (FEB. 11, 2000) (AR01-11)

AR00-12 (FEB. 11, 2000) (AR01-12)

AR00-13 (FEB. 11, 2000) (AR01-13)

AR00-14 (FEB. 11, 2000) (AR01-14)

AR00-15 (FEB. 11, 2000) (AR01-15)

AR00-16 (FEB. 11, 2000) (AR01-16)

AR00-17 (FEB. 11, 2000) (AR01-17)

AR00-18 (FEB. 11, 2000) (AR01-18)

AR00-19 (FEB. 11, 2000) (AR01-19)

AR00-20 (FEB. 11, 2000) (AR01-20)

AR00-21 (FEB. 11, 2000) (AR01-21)

AR00-22 (FEB. 11, 2000) (AR01-22)

AR00-23 (FEB. 11, 2000) (AR01-23)

AR00-24 (FEB. 11, 2000) (AR01-24)

AR00-25 (FEB. 11, 2000) (AR01-25)

AR00-26 (FEB. 11, 2000) (AR01-26)

AR00-27 (FEB. 11, 2000) (AR01-27)

AR00-28 (FEB. 11, 2000) (AR01-28)

AR00-29 (FEB. 11, 2000) (AR01-29)

AR00-30 (FEB. 11, 2000) (AR01-30)

AR00-31 (FEB. 11, 2000) (AR01-31)

AR00-32 (FEB. 11, 2000) (AR01-32)

AR00-33 (FEB. 11, 2000) (AR01-33)

AR00-34 (FEB. 11, 2000) (AR01-34)

AR00-35 (FEB. 11, 2000) (AR01-35)

AR00-36 (FEB. 11, 2000) (AR01-36)

AR00-37 (FEB. 11, 2000) (AR01-37)

AR00-38 (FEB. 11, 2000) (AR01-38)

AR00-39 (FEB. 11, 2000) (AR01-39)

AR00-40 (FEB. 11, 2000) (AR01-40)

AR00-41 (FEB. 11, 2000) (AR01-41)

AR00-42 (FEB. 11, 2000) (AR01-42)

AR00-43 (FEB. 11, 2000) (AR01-43)

AR00-44 (FEB. 11, 2000) (AR01-44)

AR00-45 (FEB. 11, 2000) (AR01-45)

AR00-46 (FEB. 11, 2000) (AR01-46)

AR00-47 (FEB. 11, 2000) (AR01-47)

Iowa

IA00-01 (FEB. 11, 2000) (IA01-01)

IA00-02 (FEB. 11, 2000) (IA01-02)

IA00-03 (FEB. 11, 2000) (IA01-03)

IA00-04 (FEB. 11, 2000) (IA01-04)

IA00-05 (FEB. 11, 2000) (IA01-05)

IA00-06 (FEB. 11, 2000) (IA01-06)

IA00-07 (FEB. 11, 2000) (IA01-07)

IA00-08 (FEB. 11, 2000) (IA01-08)

IA00-09 (FEB. 11, 2000) (IA01-09)

IA00-10 (FEB. 11, 2000) (IA01-10)

IA00-11 (FEB. 11, 2000) (IA01-11)

IA00-12 (FEB. 11, 2000) (IA01-12)

IA00-13 (FEB. 11, 2000) (IA01-13)

IA00-14 (FEB. 11, 2000) (IA01-14)

IA00-15 (FEB. 11, 2000) (IA01-15)

IA00-16 (FEB. 11, 2000) (IA01-16)

IA00-17 (FEB. 11, 2000) (IA01-17)

IA00-18 (FEB. 11, 2000) (IA01-18)

IA00-19 (FEB. 11, 2000) (IA01-19)

IA00-20 (FEB. 11, 2000) (IA01-20)

IA00-21 (FEB. 11, 2000) (IA01-21)

IA00-22 (FEB. 11, 2000) (IA01-22)

IA00-23 (FEB. 11, 2000) (IA01-23)

IA00-24 (FEB. 11, 2000) (IA01-24)

IA00-25 (FEB. 11, 2000) (IA01-25)

IA00-26 (FEB. 11, 2000) (IA01-26)

IA00-27 (FEB. 11, 2000) (IA01-27)

IA00-28 (FEB. 11, 2000) (IA01-28)

IA00-29 (FEB. 11, 2000) (IA01-29)

IA00-30 (FEB. 11, 2000) (IA01-30)

IA00-31 (FEB. 11, 2000) (IA01-31)

IA00-32 (FEB. 11, 2000) (IA01-32)

IA00-33 (FEB. 11, 2000) (IA01-33)

IA00-34 (FEB. 11, 2000) (IA01-34)

IA00-35 (FEB. 11, 2000) (IA01-35)

IA00-36 (FEB. 11, 2000) (IA01-36)

IA00-37 (FEB. 11, 2000) (IA01-37)

IA00-38 (FEB. 11, 2000) (IA01-38)

IA00-39 (FEB. 11, 2000) (IA01-39)

IA00-40 (FEB. 11, 2000) (IA01-40)

IA00-41 (FEB. 11, 2000) (IA01-41)

IA00-42 (FEB. 11, 2000) (IA01-42)

IA00-43 (FEB. 11, 2000) (IA01-43)

IA00-44 (FEB. 11, 2000) (IA01-44)

IA00-45 (FEB. 11, 2000) (IA01-45)

IA00-46 (FEB. 11, 2000) (IA01-46)

IA00-47 (FEB. 11, 2000) (IA01-47)

IA00-48 (FEB. 11, 2000) (IA01-48)

IA00-49 (FEB. 11, 2000) (IA01-49)

IA00-50 (FEB. 11, 2000) (IA01-50)

IA00-51 (FEB. 11, 2000) (IA01-51)

IA00-52 (FEB. 11, 2000) (IA01-52)

IA00-53 (FEB. 11, 2000) (IA01-53)

IA00-54 (FEB. 11, 2000) (IA01-54)

IA00-55 (FEB. 11, 2000) (IA01-55)

IA00-56 (FEB. 11, 2000) (IA01-56)

IA00-57 (FEB. 11, 2000) (IA01-57)

IA00-58 (FEB. 11, 2000) (IA01-58)

IA00-59 (FEB. 11, 2000) (IA01-59)

IA00-60 (FEB. 11, 2000) (IA01-60)

IA00-61 (FEB. 11, 2000) (IA01-61)

IA00-62 (FEB. 11, 2000) (IA01-62)

IA00-63 (FEB. 11, 2000) (IA01-63)

IA00-64 (FEB. 11, 2000) (IA01-64)

IA00-65 (FEB. 11, 2000) (IA01-65)

IA00-66 (FEB. 11, 2000) (IA01-66)

IA00-67 (FEB. 11, 2000) (IA01-67)

IA00-68 (FEB. 11, 2000) (IA01-68)

IA00-69 (FEB. 11, 2000) (IA01-69)

IA00-70 (FEB. 11, 2000) (IA01-70)

Kansas

KS00-01 (FEB. 11, 2000) (KS01-01)

KS00-02 (FEB. 11, 2000) (KS01-02)

KS00-03 (FEB. 11, 2000) (KS01-03)

KS00-04 (FEB. 11, 2000) (KS01-04)

KS00-05 (FEB. 11, 2000) (KS01-05)

KS00-06 (FEB. 11, 2000) (KS01-06)

KS00-07 (FEB. 11, 2000) (KS01-07)

KS00-08 (FEB. 11, 2000) (KS01-08)

KS00-09 (FEB. 11, 2000) (KS01-09)

KS00-10 (FEB. 11, 2000) (KS01-10)

KS00-11 (FEB. 11, 2000) (KS01-11)

KS00-12 (FEB. 11, 2000) (KS01-12)

KS00-13 (FEB. 11, 2000) (KS01-13)

KS00-14 (FEB. 11, 2000) (KS01-14)

KS00-15 (FEB. 11, 2000) (KS01-15)

KS00-16 (FEB. 11, 2000) (KS01-16)

KS00-17 (FEB. 11, 2000) (KS01-17)

KS00-18 (FEB. 11, 2000) (KS01-18)

KS00-19 (FEB. 11, 2000) (KS01-19)

KS00-20 (FEB. 11, 2000) (KS01-20)

KS00-21 (FEB. 11, 2000) (KS01-21)

KS00-22 (FEB. 11, 2000) (KS01-22)

KS00-23 (FEB. 11, 2000) (KS01-23)

KS00-24 (FEB. 11, 2000) (KS01-24)

KS00-25 (FEB. 11, 2000) (KS01-25)

KS00-26 (FEB. 11, 2000) (KS01-26)

KS00-27 (FEB. 11, 2000) (KS01-27)

KS00-28 (FEB. 11, 2000) (KS01-28)

KS00-29 (FEB. 11, 2000) (KS01-29)

KS00-30 (FEB. 11, 2000) (KS01-30)

KS00-31 (FEB. 11, 2000) (KS01-31)

KS00-32 (FEB. 11, 2000) (KS01-32)

KS00-33 (FEB. 11, 2000) (KS01-33)

KS00-34 (FEB. 11, 2000) (KS01-34)

KS00-35 (FEB. 11, 2000) (KS01-35)

KS00-36 (FEB. 11, 2000) (KS01-36)

KS00-37 (FEB. 11, 2000) (KS01-37)

KS00-38 (FEB. 11, 2000) (KS01-38)

KS00-39 (FEB. 11, 2000) (KS01-39)

KS00-40 (FEB. 11, 2000) (KS01-40)

KS00-41 (FEB. 11, 2000) (KS01-41)

KS00-42 (FEB. 11, 2000) (KS01-42)

KS00-43 (FEB. 11, 2000) (KS01-43)

KS00-44 (FEB. 11, 2000) (KS01-44)

KS00-45 (FEB. 11, 2000) (KS01-45)

KS00-46 (FEB. 11, 2000) (KS01-46)

KS00-47 (FEB. 11, 2000) (KS01-47)

KS00-48 (FEB. 11, 2000) (KS01-48)

KS00-49 (FEB. 11, 2000) (KS01-49)

KS00-50 (FEB. 11, 2000) (KS01-50)

KS00-51 (FEB. 11, 2000) (KS01-51)

KS00-52 (FEB. 11, 2000) (KS01-52)

KS00-53 (FEB. 11, 2000) (KS01-53)

KS00-54 (FEB. 11, 2000) (KS01-54)

KS00-55 (FEB. 11, 2000) (KS01-55)

KS00-56 (FEB. 11, 2000) (KS01-56)

KS00-57 (FEB. 11, 2000) (KS01-57)

KS00-58 (FEB. 11, 2000) (KS01-58)

KS00-59 (FEB. 11, 2000) (KS01-59)

KS00-60 (FEB. 11, 2000) (KS01-60)

KS00-61 (FEB. 11, 2000) (KS01-61)

KS00-62 (FEB. 11, 2000) (KS01-62)

KS00-63 (FEB. 11, 2000) (KS01-63)

KS00-64 (FEB. 11, 2000) (KS01-64)

KS00-65 (FEB. 11, 2000) (KS01-65)

KS00-66 (FEB. 11, 2000) (KS01-66)

KS00-67 (FEB. 11, 2000) (KS01-67)

KS00-68 (FEB. 11, 2000) (KS01-68)

KS00-69 (FEB. 11, 2000) (KS01-69)

KS00-70 (FEB. 11, 2000) (KS01-70)

Louisiana

LA00-01 (FEB. 11, 2000) (LA01-01)

LA00-02 (FEB. 11, 2000) (LA01-02)

LA00-03 (FEB. 11, 2000) (LA01-03)

LA00-04 (FEB. 11, 2000) (LA01-04)

LA00-05 (FEB. 11, 2000) (LA01-05)

LA00-06 (FEB. 11, 2000) (LA01-06)

LA00-07 (FEB. 11, 2000) (LA01-07)

LA00-08 (FEB. 11, 2000) (LA01-08)

LA00-09 (FEB. 11, 2000) (LA01-09)

LA00-10 (FEB. 11, 2000) (LA01-10)

LA00-11 (FEB. 11, 2000) (LA01-11)

LA00-12 (FEB. 11, 2000) (LA01-12)

LA00-13 (FEB. 11, 2000) (LA01-13)

LA00-14 (FEB. 11, 2000) (LA01-14)

LA00-15 (FEB. 11, 2000) (LA01-15)

LA00-16 (FEB. 11, 2000) (LA01-16)

LA00-17 (FEB. 11, 2000) (LA01-17)

LA00-18 (FEB. 11, 2000) (LA01-18)

LA00-19 (FEB. 11, 2000) (LA01-19)

LA00-20 (FEB. 11, 2000) (LA01-20)

LA00-21 (FEB. 11, 2000) (LA01-21)

LA00-22 (FEB. 11, 2000) (LA01-22)

LA00-23 (FEB. 11, 2000) (LA01-23)

LA00-24 (FEB. 11, 2000) (LA01-24)

LA00-25 (FEB. 11, 2000) (LA01-25)

LA00-26 (FEB. 11, 2000) (LA01-26)

LA00-27 (FEB. 11, 2000) (LA01-27)

LA00-28 (FEB. 11, 2000) (LA01-28)

LA00-29 (FEB. 11, 2000) (LA01-29)

LA00-30 (FEB. 11, 2000) (LA01-30)

LA00-31 (FEB. 11, 2000) (LA01-31)

LA00-32 (FEB. 11, 2000) (LA01-32)

LA00-33 (FEB. 11, 2000) (LA01-33)

LA00-34 (FEB. 11, 2000) (LA01-34)

LA00-35 (FEB. 11, 2000) (LA01-35)

LA00-36 (FEB. 11, 2000) (LA01-36)

LA00-37 (FEB. 11, 2000) (LA01-37)

LA00-38 (FEB. 11, 2000) (LA01-38)

LA00-39 (FEB. 11, 2000) (LA01-39)

LA00-40 (FEB. 11, 2000) (LA01-40)

LA00-41 (FEB. 11, 2000) (LA01-41)

LA00-42 (FEB. 11, 2000) (LA01-42)

LA00-43 (FEB. 11, 2000) (LA01-43)

LA00-44 (FEB. 11, 2000) (LA01-44)

LA00-45 (FEB. 11, 2000) (LA01-45)

LA00-46 (FEB. 11, 2000) (LA01-46)

LA00-47 (FEB. 11, 2000) (LA01-47)

LA00-48 (FEB. 11, 2000) (LA01-48)

LA00-49 (FEB. 11, 2000) (LA01-49)

LA00-50 (FEB. 11, 2000) (LA01-50)

LA00-51 (FEB. 11, 2000) (LA01-51)

LA00-52 (FEB. 11, 2000) (LA01-52)

LA00-53 (FEB. 11, 2000) (LA01-53)

LA00-54 (FEB. 11, 2000) (LA01-54)

Missouri

MO00-01 (FEB. 11, 2000) (MO01-01)

MO00-02 (FEB. 11, 2000) (MO01-02)

MO00-03 (FEB. 11, 2000) (MO01-03)

MO00-04 (FEB. 11, 2000) (MO01-04)

MO00-05 (FEB. 11, 2000) (MO01-05)

MO00-06 (FEB. 11, 2000) (MO01-06)

MO00-07 (FEB. 11, 2000) (MO01-07)

MO00-08 (FEB. 11, 2000) (MO01-08)

MO00-09 (FEB. 11, 2000) (MO01-09)

MO00-10 (FEB. 11, 2000) (MO01-10)

MO00-11 (FEB. 11, 2000) (MO01-11)

MO00-12 (FEB. 11, 2000) (MO01-12)

MO00-13 (FEB. 11, 2000) (MO01-13)

MO00-14 (FEB. 11, 2000) (MO01-14)

MO00-15 (FEB. 11, 2000) (MO01-15)

MO00-16 (FEB. 11, 2000) (MO01-16)

MO00-17 (FEB. 11, 2000) (MO01-17)

MO00-18 (FEB. 11, 2000) (MO01-18)

MO00-19 (FEB. 11, 2000) (MO01-19)

MO00-20 (FEB. 11, 2000) (MO01-20)

MO00-21 (FEB. 11, 2000) (MO01-21)

MO00-22 (FEB. 11, 2000) (MO01-22)

MO00-23 (FEB. 11, 2000) (MO01-23)

MO00-24 (FEB. 11, 2000) (MO01-24)

MO00-25 (FEB. 11, 2000) (MO01-25)

MO00-26 (FEB. 11, 2000) (MO01-26)

MO00-27 (FEB. 11, 2000) (MO01-27)

MO00-28 (FEB. 11, 2000) (MO01-28)

MO00-29 (FEB. 11, 2000) (MO01-29)

MO00-30 (FEB. 11, 2000) (MO01-30)

MO00-31 (FEB. 11, 2000) (MO01-31)

MO00-32 (FEB. 11, 2000) (MO01-32)

MO00-33 (FEB. 11, 2000) (MO01-33)

MO00-34 (FEB. 11, 2000) (MO01-34)

MO00-35 (FEB. 11, 2000) (MO01-35)

MO00-36 (FEB. 11, 2000) (MO01-36)

MO00-37 (FEB. 11, 2000) (MO01-37)

MO00-38 (FEB. 11, 2000) (MO01-38)

MO00-39 (FEB. 11, 2000) (MO01-39)

MO00-40 (FEB. 11, 2000) (MO01-40)

MO00-41 (FEB. 11, 2000) (MO01-41)

MO00-42 (FEB. 11, 2000) (MO01-42)

MO00-43 (FEB. 11, 2000) (MO01-43)

MO00-44 (FEB. 11, 2000) (MO01-44)

MO00-45 (FEB. 11, 2000) (MO01-45)

MO00-46 (FEB. 11, 2000) (MO01-46)

MO00-47 (FEB. 11, 2000) (MO01-47)

MO00-48 (FEB. 11, 2000) (MO01-48)

MO00-49 (FEB. 11, 2000) (MO01-49)

MO00-50 (FEB. 11, 2000) (MO01-50)

MO00-51 (FEB. 11, 2000) (MO01-51)

MO00-52 (FEB. 11, 2000) (MO01-52)

MO00-53 (FEB. 11, 2000) (MO01-53)

MO00-54 (FEB. 11, 2000) (MO01-54)

MO00-55 (FEB. 11, 2000) (MO01-55)

MO00-56 (FEB. 11, 2000) (MO01-56)

MO00-57 (FEB. 11, 2000) (MO01-57)

MO00-58 (FEB. 11, 2000) (MO01-58)

MO00-59 (FEB. 11, 2000) (MO01-59)

MO00-60 (FEB. 11, 2000) (MO01-60)

MO00-61 (FEB. 11, 2000) (MO01-61)

MO00-62 (FEB. 11, 2000) (MO01-62)

MO00-63 (FEB. 11, 2000) (MO01-63)

MO00-64 (FEB. 11, 2000) (MO01-64)

MO00-65 (FEB. 11, 2000) (MO01-65)

MO00-66 (FEB. 11, 2000) (MO01-66)

Nebraska

NE00-01 (FEB. 11, 2000) (NE01-01)

NE00-02 (FEB. 11, 2000) (NE01-02)

NE00-03 (FEB. 11, 2000) (NE01-03)

NE00-04 (FEB. 11, 2000) (NE01-04)

NE00-05 (FEB. 11, 2000) (NE01-05)

NE00-06 (FEB. 11, 2000) (NE01-06)

NE00-07 (FEB. 11, 2000) (NE01-07)

NE00-08 (FEB. 11, 2000) (NE01-08)

NE00-09 (FEB. 11, 2000) (NE01-09)

NE00-10 (FEB. 11, 2000) (NE01-10)

NE00-11 (FEB. 11, 2000) (NE01-11)

NE00-12 (FEB. 11, 2000) (NE01-12)

NE00-13 (FEB. 11, 2000) (NE01-13)

NE00-14 (FEB. 11, 2000) (NE01-14)

NE00-15 (FEB. 11, 2000) (NE01-15)

NE00-16 (FEB. 11, 2000) (NE01-16)

NE00-17 (FEB. 11, 2000) (NE01-17)

NE00-18 (FEB. 11, 2000) (NE01-18)

NE00-19 (FEB. 11, 2000) (NE01-19)

NE00-20 (FEB. 11, 2000) (NE01-20)

NE00-21 (FEB. 11, 2000) (NE01-21)

NE00-22 (FEB. 11, 2000) (NE01-22)

NE00-23 (FEB. 11, 2000) (NE01-23)

NE00-24 (FEB. 11, 2000) (NE01-24)

NE00-25 (FEB. 11, 2000) (NE01-25)

NE00-26 (FEB. 11, 2000) (NE01-26)

NE00-27 (FEB. 11, 2000) (NE01-27)

NE00-28 (FEB. 11, 2000) (NE01-28)

NE00-29 (FEB. 11, 2000) (NE01-29)

NE00-30 (FEB. 11, 2000) (NE01-30)

NE00-31 (FEB. 11, 2000) (NE01-31)

NE00-32 (FEB. 11, 2000) (NE01-32)

NE00-33 (FEB. 11, 2000) (NE01-33)

NE00-34 (FEB. 11, 2000) (NE01-34)

NE00-35 (FEB. 11, 2000) (NE01-35)

NE00-36 (FEB. 11, 2000) (NE01-36)

NE00-37 (FEB. 11, 2000) (NE01-37)

NE00-38 (FEB. 11, 2000) (NE01-38)

NE00-39 (FEB. 11, 2000) (NE01-39)

NE00-40 (FEB. 11, 2000) (NE01-40)

NE00-41 (FEB. 11, 2000) (NE01-41)

NE00-42 (FEB. 11, 2000) (NE01-42)

NE00-43 (FEB. 11, 2000) (NE01-43)

New Mexico

NM00-01 (FEB. 11, 2000) (NM01-01)

NM00-02 (FEB. 11, 2000) (NM01-02)

NM00-03 (FEB. 11, 2000) (NM01-03)

NM00-04 (FEB. 11, 2000) (NM01-04)

NM00-05 (FEB. 11, 2000) (NM01-05)

NM00-06 (FEB. 11, 2000) (NM01-06)

Oklahoma

OK00-01 (FEB. 11, 2000) (OK01-01)

OK00-02 (FEB. 11, 2000) (OK01-02)

OK00-03 (FEB. 11, 2000) (OK01-03)

OK00-04 (FEB. 11, 2000) (OK01-04)

OK00-05 (FEB. 11, 2000) (OK01-05)

OK00-06 (FEB. 11, 2000) (OK01-06)

OK00-07 (FEB. 11, 2000) (OK01-07)

OK00-08 (FEB. 11, 2000) (OK01-08)

OK00-09 (FEB. 11, 2000) (OK01-09)

OK00-10 (FEB. 11, 2000) (OK01-10)

OK00-11 (FEB. 11, 2000) (OK01-11)

OK00-12 (FEB. 11, 2000) (OK01-12)

OK00-13 (FEB. 11, 2000) (OK01-13)

OK00-14 (FEB. 11, 2000) (OK01-14)

OK00-15 (FEB. 11, 2000) (OK01-15)

OK00-16 (FEB. 11, 2000) (OK01-16)

OK00-17 (FEB. 11, 2000) (OK01-17)

OK00-18 (FEB. 11, 2000) (OK01-18)

OK00-19 (FEB. 11, 2000) (OK01-19)

OK00-20 (FEB. 11, 2000) (OK01-20)

OK00-21 (FEB. 11, 2000) (OK01-21)

OK00-22 (FEB. 11, 2000) (OK01-22)

OK00-23 (FEB. 11, 2000) (OK01-23)

OK00-24 (FEB. 11, 2000) (OK01-24)

OK00-25 (FEB. 11, 2000) (OK01-25)

OK00-26 (FEB. 11, 2000) (OK01-26)

OK00-27 (FEB. 11, 2000) (OK01-27)

OK00-28 (FEB. 11, 2000) (OK01-28)

OK00-29 (FEB. 11, 2000) (OK01-29)

OK00-30 (FEB. 11, 2000) (OK01-30)

OK00-31 (FEB. 11, 2000) (OK01-31)

OK00-32 (FEB. 11, 2000) (OK01-32)

OK00-33 (FEB. 11, 2000) (OK01-33)

OK00-34 (FEB. 11, 2000) (OK01-34)

OK00-35 (FEB. 11, 2000) (OK01-35)

OK00-36 (FEB. 11, 2000) (OK01-36)

OK00-37 (FEB. 11, 2000) (OK01-37)

OK00-38 (FEB. 11, 2000) (OK01-38)

OK00-39 (FEB. 11, 2000) (OK01-39)

OK00-40 (FEB. 11, 2000) (OK01-40)

OK00-41 (FEB. 11, 2000) (OK01-41)

OK00-42 (FEB. 11, 2000) (OK01-42)

OK00-43 (FEB. 11, 2000) (OK01-43)

OK00-44 (FEB. 11, 2000) (OK01-44)

OK00-45 (FEB. 11, 2000) (OK01-45)

OK00-46 (FEB. 11, 2000) (OK01-46)

Texas

TX00-01 (FEB. 11, 2000) (TX01-01)

TX00-02 (FEB. 11, 2000) (TX01-02)

TX00-03 (FEB. 11, 2000) (TX01-03)

TX00-04 (FEB. 11, 2000) (TX01-04)

TX00-05 (FEB. 11, 2000) (TX01-05)

TX00-06 (FEB. 11, 2000) (TX01-06)

TX00-07 (FEB. 11, 2000) (TX01-07)

TX00-08 (FEB. 11, 2000) (TX01-08)

TX00-09 (FEB. 11, 2000) (TX01-09)

TX00-10 (FEB. 11, 2000) (TX01-10)

TX00-11 (FEB. 11, 2000) (TX01-11)

TX00-12 (FEB. 11, 2000) (TX01-12)

TX00-13 (FEB. 11, 2000) (TX01-13)

TX00-14 (FEB. 11, 2000) (TX01-14)

TX00-15 (FEB. 11, 2000) (TX01-15)

TX00-16 (FEB. 11, 2000) (TX01-16)

TX00-17 (FEB. 11, 2000) (TX01-17)

TX00-18 (FEB. 11, 2000) (TX01-18)

TX00-19 (FEB. 11, 2000) (TX01-19)

TX00-20 (FEB. 11, 2000) (TX01-20)

TX00-21 (FEB. 11, 2000) (TX01-21)

TX00-22 (FEB. 11, 2000) (TX01-22)

TX00-23 (FEB. 11, 2000) (TX01-23)

TX00-24 (FEB. 11, 2000) (TX01-24)

TX00-25 (FEB. 11, 2000) (TX01-25)

TX00-26 (FEB. 11, 2000) (TX01-26)

TX00-27 (FEB. 11, 2000) (TX01-27)

TX00-28 (FEB. 11, 2000) (TX01-28)

TX00-29 (FEB. 11, 2000) (TX01-29)

TX00-30 (FEB. 11, 2000) (TX01-30)

TX00-31 (FEB. 11, 2000) (TX01-31)

TX00-32 (FEB. 11, 2000) (TX01-32)

TX00-33 (FEB. 11, 2000) (TX01-33)

TX00-34 (FEB. 11, 2000) (TX01-34)

TX00-35 (FEB. 11, 2000) (TX01-35)

TX00-36 (FEB. 11, 2000) (TX01-36)

TX00-37 (FEB. 11, 2000) (TX01-37)

TX00-38 (FEB. 11, 2000) (TX01-38)

TX00-39 (FEB. 11, 2000) (TX01-39)

TX00-40 (FEB. 11, 2000) (TX01-40)

TX00-41 (FEB. 11, 2000) (TX01-41)

TX00-42 (FEB. 11, 2000) (TX01-42)

TX00-43 (FEB. 11, 2000) (TX01-43)

TX00-44 (FEB. 11, 2000) (TX01-44)

TX00-45 (FEB. 11, 2000) (TX01-45)

TX00-46 (FEB. 11, 2000) (TX01-46)

TX00-47 (FEB. 11, 2000) (TX01-47)

TX00-48 (FEB. 11, 2000) (TX01-48)

TX00-49 (FEB. 11, 2000) (TX01-49)

TX00-50 (FEB. 11, 2000) (TX01-50)

TX00-51 (FEB. 11, 2000) (TX01-51)

TX00-52 (FEB. 11, 2000) (TX01-52)

TX00-53 (FEB. 11, 2000) (TX01-53)

TX00-54 (FEB. 11, 2000) (TX01-54)

TX00-55 (FEB. 11, 2000) (TX01-55)

TX00-56 (FEB. 11, 2000) (TX01-56)

TX00-57 (FEB. 11, 2000) (TX01-57)

TX00-58 (FEB. 11, 2000) (TX01-58)

TX00-59 (FEB. 11, 2000) (TX01-59)

TX00-60 (FEB. 11, 2000) (TX01-60)

TX00-61 (FEB. 11, 2000) (TX01-61)

TX00-62 (FEB. 11, 2000) (TX01-62)

TX00-63 (FEB. 11, 2000) (TX01-63)

TX00-64 (FEB. 11, 2000) (TX01-64)

TX00-65 (FEB. 11, 2000) (TX01-65)

TX00-66 (FEB. 11, 2000) (TX01-66)

TX00-67 (FEB. 11, 2000) (TX01-67)

TX00-68 (FEB. 11, 2000) (TX01-68)

TX00-69 (FEB. 11, 2000) (TX01-69)

TX00-70 (FEB. 11, 2000) (TX01-70)

TX00-71 (FEB. 11, 2000) (TX01-71)

TX00-72 (FEB. 11, 2000) (TX01-72)

TX00-73 (FEB. 11, 2000) (TX01-73)

TX00-74 (FEB. 11, 2000) (TX01-74)

TX00-75 (FEB. 11, 2000) (TX01-75)

TX00-76 (FEB. 11, 2000) (TX01-76)

TX00-77 (FEB. 11, 2000) (TX01-77)

TX00-78 (FEB. 11, 2000) (TX01-78)

TX00-79 (FEB. 11, 2000) (TX01-79)

TX00-80 (FEB. 11, 2000) (TX01-80)

TX00-81 (FEB. 11, 2000) (TX01-81)

TX00-82 (FEB. 11, 2000) (TX01-82)

TX00-83 (FEB. 11, 2000) (TX01-83)

TX00-84 (FEB. 11, 2000) (TX01-84)

TX00-85 (FEB. 11, 2000) (TX01-85)

TX00-86 (FEB. 11, 2000) (TX01-86)

TX00-87 (FEB. 11, 2000) (TX01-87)

TX00-88 (FEB. 11, 2000) (TX01-88)

TX00-89 (FEB. 11, 2000) (TX01-89)

TX00-90 (FEB. 11, 2000) (TX01-90)

TX00-91 (FEB. 11, 2000) (TX01-91)

TX00-92 (FEB. 11, 2000) (TX01-92)

TX00-93 (FEB. 11, 2000) (TX01-93)

TX00-94 (FEB. 11, 2000) (TX01-94)

TX00-95 (FEB. 11, 2000) (TX01-95)

TX00-96 (FEB. 11, 2000) (TX01-96)

TX00-97 (FEB. 11, 2000) (TX01-97)

TX00-98 (FEB. 11, 2000) (TX01-98)

TX00-99 (FEB. 11, 2000) (TX01-99)

TX00-100 (FEB. 11, 2000) (TX01-100)

TX00-101 (FEB. 11, 2000) (TX01-101)

TX00-102 (FEB. 11, 2000) (TX01-102)

TX00-103 (FEB. 11, 2000) (TX01-103)

TX00-104 (FEB. 11, 2000) (TX01-104)

TX00-105 (FEB. 11, 2000) (TX01-105)

TX00-106 (FEB. 11, 2000) (TX01-106)

TX00-107 (FEB. 11, 2000) (TX01-107)

TX00-108 (FEB. 11, 2000) (TX01-108)

TX00-109 (FEB. 11, 2000) (TX01-109)

TX00-110 (FEB. 11, 2000) (TX01-110)

TX00-111 (FEB. 11, 2000) (TX01-111)

TX00-112 (FEB. 11, 2000) (TX01-112)

TX00-113 (FEB. 11, 2000) (TX01-113)

TX00-114 (FEB. 11, 2000) (TX01-114)

TX00-115 (FEB. 11, 2000) (TX01-115)

TX00-116 (FEB. 11, 2000) (TX01-116)

TX00-117 (FEB. 11, 2000) (TX01-117)

TX00-118 (FEB. 11, 2000) (TX01-118)

TX00-119 (FEB. 11, 2000) (TX01-119)

TX00-120 (FEB. 11, 2000) (TX01-120)

TX00-121 (MAR. 17, 2000) (TX01-121)

Volume VI

Alaska

AK00-01 (FEB. 11, 2000) (AK01-01)

AK00-02 (FEB. 11, 2000) (AK01-02)

AK00-03 (FEB. 11, 2000) (AK01-03)

AK00-04 (FEB. 11, 2000) (AK01-04)

AK00-05 (FEB. 11, 2000) (AK01-05)

AK00-06 (FEB. 11, 2000) (AK01-06)

AK00-07 (FEB. 11, 2000) (AK01-07)

AK00-08 (FEB. 11, 2000) (AK01-08)

Colorado

CO00-01 (FEB. 11, 2000) (CO01-01)

CO00-02 (FEB. 11, 2000) (CO01-02)

CO00-03 (FEB. 11, 2000) (CO01-03)

CO00-04 (FEB. 11, 2000) (CO01-04)

CO00-05 (FEB. 11, 2000) (CO01-05)

CO00-06 (FEB. 11, 2000) (CO01-06)

CO00-07 (FEB. 11, 2000) (CO01-07)

CO00-08 (FEB. 11, 2000) (CO01-08)

CO00-09 (FEB. 11, 2000) (CO01-09)

CO00-10 (FEB. 11, 2000) (CO01-10)

CO00-11 (FEB. 11, 2000) (CO01-11)

CO00-12 (FEB. 11, 2000) (CO01-12)

CO00-13 (FEB. 11, 2000) (CO01-13)

CO00-14 (FEB. 11, 2000) (CO01-14)

CO00-15 (FEB. 11, 2000) (CO01-15)

CO00-16 (FEB. 11, 2000) (CO01-16)

CO00-17 (FEB. 11, 2000) (CO01-17)

CO00-18 (FEB. 11, 2000) (CO01-18)

CO00-19 (FEB. 11, 2000) (CO01-19)

CO00-20 (FEB. 11, 2000) (CO01-20)

CO00-21 (FEB. 11, 2000) (CO01-21)

CO00-22 (FEB. 11, 2000) (CO01-22)

CO00-23 (FEB. 11, 2000) (CO01-23)

CO00-24 (FEB. 11, 2000) (CO01-24)

CO00-25 (FEB. 11, 2000) (CO01-25)

CO00-26 (FEB. 11, 2000) (CO01-26)

CO00-27 (FEB. 11, 2000) (CO01-27)

CO00-28 (FEB. 11, 2000) (CO01-28)

CO00-29 (FEB. 11, 2000) (CO01-29)

CO00-30 (FEB. 11, 2000) (CO01-30)

CO00-31 (FEB. 11, 2000) (CO01-31)

CO00-32 (FEB. 11, 2000) (CO01-32)

CO00-33 (FEB. 11, 2000) (CO01-33)

CO00-34 (FEB. 11, 2000) (CO01-34)

CO00-35 (FEB. 11, 2000) (CO01-35)

Idaho

ID00-01 (FEB. 11, 2000) (ID01-01)

ID00-02 (FEB. 11, 2000) (ID01-02)

ID00-03 (FEB. 11, 2000) (ID01-03)

ID00-04 (FEB. 11, 2000) (ID01-04)

ID00-05 (FEB. 11, 2000) (ID01-05)

ID00-06 (FEB. 11, 2000) (ID01-06)

ID00-07 (FEB. 11, 2000) (ID01-07)

ID00-08 (FEB. 11, 2000) (ID01-08)

ID00-09 (FEB. 11, 2000) (ID01-09)

ID00-10 (FEB. 11, 2000) (ID01-10)

ID00-11 (FEB. 11, 2000) (ID01-11)

ID00-12 (FEB. 11, 2000) (ID01-12)

ID00-13 (FEB. 11, 2000) (ID01-13)

ID00-14 (FEB. 11, 2000) (ID01-14)

Montana

MT00-01 (FEB. 11, 2000) (MT01-01)

MT00-02 (FEB. 11, 2000) (MT01-02)

MT00-03 (FEB. 11, 2000) (MT01-03)

MT00-04 (FEB. 11, 2000) (MT01-04)

MT00-05 (FEB. 11, 2000) (MT01-05)

MT00-06 (FEB. 11, 2000) (MT01-06)

MT00-07 (FEB. 11, 2000) (MT01-07)

MT00-08 (FEB. 11, 2000) (MT01-08)

MT00-09 (FEB. 11, 2000) (MT01-09)

MT00-10 (FEB. 11, 2000) (MT01-10)

MT00-11 (FEB. 11, 2000) (MT01-11)

MT00-12 (FEB. 11, 2000) (MT01-12)

MT00-13 (FEB. 11, 2000) (MT01-13)

MT00-14 (FEB. 11, 2000) (MT01-14)

MT00-15 (FEB. 11, 2000) (MT01-15)

MT00-16 (FEB. 11, 2000) (MT01-16)

MT00-17 (FEB. 11, 2000) (MT01-17)

MT00-18 (FEB. 11, 2000) (MT01-18)

MT00-19 (FEB. 11, 2000) (MT01-19)

MT00-20 (FEB. 11, 2000) (MT01-20)

MT00-21 (FEB. 11, 2000) (MT01-21)

MT00-22 (FEB. 11, 2000) (MT01-22)

MT00-23 (FEB. 11, 2000) (MT01-23)

MT00-24 (FEB. 11, 2000) (MT01-24)

MT00-25 (FEB. 11, 2000) (MT01-25)

MT00-26 (FEB. 11, 2000) (MT01-26)

MT00-27 (FEB. 11, 2000) (MT01-27)

MT00-28 (FEB. 11, 2000) (MT01-28)

MT00-29 (FEB. 11, 2000) (MT01-29)

MT00-30 (FEB. 11, 2000) (MT01-30)

MT00-31 (FEB. 11, 2000) (MT01-31)

MT00-32 (FEB. 11, 2000) (MT01-32)

MT00-33 (FEB. 11, 2000) (MT01-33)

MT00-34 (FEB. 11, 2000) (MT01-34)

MT00-35 (FEB. 11, 2000) (MT01-35)

North Dakota

ND00-01 (FEB. 11, 2000) (ND01-01)

ND00-02 (FEB. 11, 2000) (ND01-02)

ND00-03 (FEB. 11, 2000) (ND01-03)

ND00-04 (FEB. 11, 2000) (ND01-04)

ND00-05 (FEB. 11, 2000) (ND01-05)

ND00-06 (FEB. 11, 2000) (ND01-06)

ND00-07 (FEB. 11, 2000) (ND01-07)

ND00-08 (FEB. 11, 2000) (ND01-08)

ND00-09 (FEB. 11, 2000) (ND01-09)

ND00-10 (FEB. 11, 2000) (ND01-10)

ND00-11 (FEB. 11, 2000) (ND01-11)

ND00-12 (FEB. 11, 2000) (ND01-12)

ND00-13 (FEB. 11, 2000) (ND01-13)

ND00-14 (FEB. 11, 2000) (ND01-14)

ND00-15 (FEB. 11, 2000) (ND01-15)

ND00-16 (FEB. 11, 2000) (ND01-16)

ND00-17 (FEB. 11, 2000) (ND01-17)

ND00-18 (FEB. 11, 2000) (ND01-18)

Oregon

OR00-01 (FEB. 11, 2000) (OR01-01)

OR00-02 (FEB. 11, 2000) (OR01-02)

OR00-03 (FEB. 11, 2000) (OR01-03)

OR00-04 (FEB. 11, 2000) (OR01-04)

OR00-05 (FEB. 11, 2000) (OR01-05)

OR00-06 (FEB. 11, 2000) (OR01-06)

OR00-07 (FEB. 11, 2000) (OR01-07)

OR00-08 (FEB. 11, 2000) (OR01-08)

OR00-09 (FEB. 11, 2000) (OR01-09)

OR00-10 (FEB. 11, 2000) (OR01-10)

OR00-11 (FEB. 11, 2000) (OR01-11)

OR00-12 (FEB. 11, 2000) (OR01-12)

OR00-13 (FEB. 11, 2000) (OR01-13)

OR00-14 (FEB. 11, 2000) (OR01-14)

OR00-15 (FEB. 11, 2000) (OR01-15)

OR00-16 (FEB. 11, 2000) (OR01-16)

OR00-17 (FEB. 11, 2000) (OR01-17)

South Dakota

SD00-01 (FEB. 11, 2000) (SD01-01)

SD00-02 (FEB. 11, 2000) (SD01-02)

SD00-03 (FEB. 11, 2000) (SD01-03)

SD00-04 (FEB. 11, 2000) (SD01-04)

SD00-05 (FEB. 11, 2000) (SD01-05)

SD00-06 (FEB. 11, 2000) (SD01-06)

SD00-07 (FEB. 11, 2000) (SD01-07)

SD00-08 (FEB. 11, 2000) (SD01-08)

SD00-09 (FEB. 11, 2000) (SD01-09)

SD00-10 (FEB. 11, 2000) (SD01-10)

Utah

UT00-01 (FEB. 11, 2000) (UT01-01)

UT00-02 (FEB. 11, 2000) (UT01-02)

UT00-03 (FEB. 11, 2000) (UT01-03)

UT00-04 (FEB. 11, 2000) (UT01-04)

UT00-05 (FEB. 11, 2000) (UT01-05)

UT00-06 (FEB. 11, 2000) (UT01-06)

UT00-07 (FEB. 11, 2000) (UT01-07)

UT00-08 (FEB. 11, 2000) (UT01-08)

UT00-09 (FEB. 11, 2000) (UT01-09)

UT00-10 (FEB. 11, 2000) (UT01-10)

UT00-11 (FEB. 11, 2000) (UT01-11)

UT00-12 (FEB. 11, 2000) (UT01-12)

UT00-13 (FEB. 11, 2000) (UT01-13)

UT00-14 (FEB. 11, 2000) (UT01-14)

UT00-15 (FEB. 11, 2000) (UT01-15)

UT00-16 (FEB. 11, 2000) (UT01-16)

UT00-17 (FEB. 11, 2000) (UT01-17)

UT00-18 (FEB. 11, 2000) (UT01-18)

UT00-19 (FEB. 11, 2000) (UT01-19)

UT00-20 (FEB. 11, 2000) (UT01-20)

UT00-21 (FEB. 11, 2000) (UT01-21)

UT00-22 (FEB. 11, 2000) (UT01-22)

UT00-23 (FEB. 11, 2000) (UT01-23)

UT00-24 (FEB. 11, 2000) (UT01-24)

UT00-25 (FEB. 11, 2000) (UT01-25)

UT00-26 (FEB. 11, 2000) (UT01-26)

UT00-27 (FEB. 11, 2000) (UT01-27)

UT00-28 (FEB. 11, 2000) (UT01-28)

UT00-29 (FEB. 11, 2000) (UT01-29)

UT00-30 (FEB. 11, 2000) (UT01-30)

UT00-31 (FEB. 11, 2000) (UT01-31)

UT00-32 (FEB. 11, 2000) (UT01-32)

UT00-33 (FEB. 11, 2000) (UT01-33)

UT00-34 (FEB. 11, 2000) (UT01-34)

UT00-35 (FEB. 11, 2000) (UT01-35)

UT00-36 (FEB. 11, 2000) (UT01-36)

Washington

WA00-01 (FEB. 11, 2000) (WA01-01)

WA00-02 (FEB. 11, 2000) (WA01-02)

WA00-03 (FEB. 11, 2000) (WA01-03)

WA00-04 (FEB. 11, 2000) (WA01-04)

WA00-05 (FEB. 11, 2000) (WA01-05)

WA00-06 (FEB. 11, 2000) (WA01-06)

WA00-07 (FEB. 11, 2000) (WA01-07)

WA00-08 (FEB. 11, 2000) (WA01-08)

WA00-09 (FEB. 11, 2000) (WA01-09)

WA00-10 (FEB. 11, 2000) (WA01-10)

WA00-11 (FEB. 11, 2000) (WA01-11)

WA00-12 (FEB. 11, 2000) (WA01-12)

WA00-13 (FEB. 11, 2000) (WA01-13)

WA00-14 (FEB. 11, 2000) (WA01-14)

WA00-15 (FEB. 11, 2000) (WA01-15)

WA00-16 (FEB. 11, 2000) (WA01-16)

WA00-17 (FEB. 11, 2000) (WA01-17)

WA00-18 (FEB. 11, 2000) (WA01-18)

WA00-19 (FEB. 11, 2000) (WA01-19)

WA00-20 (FEB. 11, 2000) (WA01-20)

WA00-21 (FEB. 11, 2000) (WA01-21)

WA00-22 (FEB. 11, 2000) (WA01-22)

WA00-23 (FEB. 11, 2000) (WA01-23)

WA00-24 (FEB. 11, 2000) (WA01-24)

WA00-25 (FEB. 11, 2000) (WA01-25)

WA00-26 (FEB. 11, 2000) (WA01-26)

WA00-27 (FEB. 11, 2000) (WA01-27)

Wyoming

WY00-01 (FEB. 11, 2000) (WY01-01)

WY00-02 (FEB. 11, 2000) (WY01-02)

WY00-03 (FEB. 11, 2000) (WY01-03)

WY00-04 (FEB. 11, 2000) (WY01-04)

WY00-05 (FEB. 11, 2000) (WY01-05)

WY00-06 (FEB. 11, 2000) (WY01-06)

WY00-07 (FEB. 11, 2000) (WY01-07)

WY00-08 (FEB. 11, 2000) (WY01-08)

WY00-09 (FEB. 11, 2000) (WY01-09)

WY00-10 (FEB. 11, 2000) (WY01-10)

WY00-11 (FEB. 11, 2000) (WY01-11)

WY00-12 (FEB. 11, 2000) (WY01-12)

WY00-13 (FEB. 11, 2000) (WY01-13)

WY00-14 (FEB. 11, 2000) (WY01-14)

WY00-15 (FEB. 11, 2000) (WY01-15)

WY00-16 (FEB. 11, 2000) (WY01-16)

WY00-17 (FEB. 11, 2000) (WY01-17)

WY00-18 (FEB. 11, 2000) (WY01-18)

WY00-19 (FEB. 11, 2000) (WY01-19)

WY00-20 (FEB. 11, 2000) (WY01-20)

WY00-21 (FEB. 11, 2000) (WY01-21)

WY00-22 (FEB. 11, 2000) (WY01-22)

WY00-23 (FEB. 11, 2000) (WY01-23)

WY00-24 (FEB. 11, 2000) (WY01-24)

Volume VII

Arizona

AZ00-01 (FEB. 11, 2000) (AZ01-01)

AZ00-02 (FEB. 11, 2000) (AZ01-02)

AZ00-03 (FEB. 11, 2000) (AZ01-03)

AZ00-04 (FEB. 11, 2000) (AZ01-04)

AZ00-05 (FEB. 11, 2000) (AZ01-05)

AZ00-06 (FEB. 11, 2000) (AZ01-06)

AZ00-07 (FEB. 11, 2000) (AZ01-07)

AZ00-08 (FEB. 11, 2000) (AZ01-08)

AZ00-09 (FEB. 11, 2000) (AZ01-09)

AZ00-10 (FEB. 11, 2000) (AZ01-10)

AZ00-11 (FEB. 11, 2000) (AZ01-11)

AZ00-12 (FEB. 11, 2000) (AZ01-12)

AZ00-13 (FEB. 11, 2000) (AZ01-13)

AZ00-14 (FEB. 11, 2000) (AZ01-14)

AZ00-15 (FEB. 11, 2000) (AZ01-15)

AZ00-16 (FEB. 11, 2000) (AZ01-16)

AZ00-17 (FEB. 11, 2000) (AZ01-17)

AZ00-18 (FEB. 11, 2000) (AZ01-18)

AZ00-19 (FEB. 11, 2000) (AZ01-19)

AZ00-20 (FEB. 11, 2000) (AZ01-20)

California

CA00-01 (FEB. 11, 2000) (CA01-01)

CA00-02 (FEB. 11, 2000) (CA01-02)

CA00-03 (FEB. 11, 2000) (CA01-03)

CA00-04 (FEB. 11, 2000) (CA01-04)

CA00-05 (FEB. 11, 2000) (CA01-05)

CA00-06 (FEB. 11, 2000) (CA01-06)

CA00-07 (FEB. 11, 2000) (CA01-07)

CA00-08 (FEB. 11, 2000) (CA01-08)

CA00-09 (FEB. 11, 2000) (CA01-09)

CA00-10 (FEB. 11, 2000) (CA01-10)

CA00-11 (FEB. 11, 2000) (CA01-11)

CA00-12 (FEB. 11, 2000) (CA01-12)

CA00-13 (FEB. 11, 2000) (CA01-13)

CA00-14 (FEB. 11, 2000) (CA01-14)

CA00-15 (FEB. 11, 2000) (CA01-15)

CA00-16 (FEB. 11, 2000) (CA01-16)

CA00-17 (FEB. 11, 2000) (CA01-17)

CA00-18 (FEB. 11, 2000) (CA01-18)

CA00-19 (FEB. 11, 2000) (CA01-19)

CA00-20 (FEB. 11, 2000) (CA01-20)

CA00-21 (FEB. 11, 2000) (CA01-21)

CA00-22 (FEB. 11, 2000) (CA01-22)

CA00-23 (FEB. 11, 2000) (CA01-23)

CA00-24 (FEB. 11, 2000) (CA01-24)

CA00-25 (FEB. 11, 2000) (CA01-25)

CA00-26 (FEB. 11, 2000) (CA01-26)

CA00-27 (FEB. 11, 2000) (CA01-27)

CA00-28 (FEB. 11, 2000) (CA01-28)

CA00-29 (FEB. 11, 2000) (CA01-29)

CA00-30 (FEB. 11, 2000) (CA01-30)

CA00-31 (FEB. 11, 2000) (CA01-31)

CA00-32 (FEB. 11, 2000) (CA01-32)

CA00-33 (FEB. 11, 2000) (CA01-33)

CA00-34 (FEB. 11, 2000) (CA01-34)

CA00-35 (FEB. 11, 2000) (CA01-35)

CA00-36 (FEB. 11, 2000) (CA01-36)

CA00-37 (FEB. 11, 2000) (CA01-37)

CA00-38 (FEB. 11, 2000) (CA01-38)

CA00-39 (FEB. 11, 2000) (CA01-39)

CA00-40 (FEB. 11, 2000) (CA01-40)

CA00-41 (FEB. 11, 2000) (CA01-41)

Hawaii

HI00-01 (FEB. 11, 2000) (HI01-01)

Nevada

NV00-01 (FEB. 11, 2000) (NV01-01)

NV00-02 (FEB. 11, 2000) (NV01-02)

NV00-03 (FEB. 11, 2000) (NV01-03)

NV00-04 (FEB. 11, 2000) (NV01-04)

NV00-05 (FEB. 11, 2000) (NV01-05)

NV00-06 (FEB. 11, 2000) (NV01-06)

NV00-07 (FEB. 11, 2000) (NV01-07)

NV00-08 (FEB. 11, 2000) (NV01-08)

NV00-09 (FEB. 11, 2000) (NV01-09)

General Wage Determination Publication

General Wage Determinations issued under the Davis-Bacon and related Acts, including those noted above, may be found in the Government Printing Office (GPO) document entitled “General Wage Determinations Issued Under The Davis-Bacon and Related Acts.” This publication is available at each of the 50 Regional Government Depository Libraries and many of the 1,400 Government Depository Libraries across the country.

The general wage determination issued under the Davis-Bacon and related Acts are available electronically by subscription to the FedWorld Bulletin Board System of the National Technical Information Service (NTIS) of the U.S. Department of Commerce at 1-800-363-2068.

Hard-copy subscriptions may be purchased from: Superintendent of Documents, U.S. Government Printing Office, Washington, DC 20402, (202) 512-1800.

When ordering hard-copy subscription(s), be sure to specify the State(s) of interest, since subscriptions may be ordered for any or all of the seven separate volumes, arranged by State. Subscriptions include an annual edition (issued in January or February) which includes all current general wage determinations for the States covered by each volume. Throughout the remainder of the year, regular weekly updates are distributed to subscribers.

Signed at Washington, DC this 20th day of February 2001.
Carl J. Poleskey,
Chief, Branch of Construction Wage Determinations.

[FR Doc. 01-4645 Filed 3-1-01; 8:45 am]

BILLING CODE 4510-27-M